DEPARTMENT OF COMMERCE

Office of the Secretary

13 CFR Ch. III

15 CFR Subtitle A; Subtitle B, Chs. I, II, III, VII, VIII, IX and XI

19 CFR Ch. III

37 CFR Chs. I, IV, and V

48 CFR Ch. 13

50 CFR Chs. II, III, IV, and VI

Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Department), in the spring and fall of each year, publishes in the Federal Register an agenda of regulations under development or review over the next 12 months. Rulemaking actions are grouped according to prerulemaking, proposed rules, final rules, long-term actions, and rulemaking actions completed since the fall 2010 agenda. The purpose of the agenda is to provide information to the public on regulations currently under review, being proposed, or issued by the Department. The agenda is intended to facilitate comments and views by interested members of the public.

The Department's spring 2011 regulatory agenda includes regulatory activities that are expected to be conducted during the period April 1, 2011, through March 31, 2012.

FOR FURTHER INFORMATION CONTACT: Specific: For additional information about specific regulatory actions listed in the agenda, contact the individual identified as the contact person.

General: Comments or inquiries of a general nature about the agenda should be directed to Asha Mathew, Chief Counsel for Regulation, Office of the Assistant General Counsel for Legislation and Regulation, U.S. Department of Commerce, Washington, DC 20230; telephone: 202-482-3151.

SUPPLEMENTARY INFORMATION: Executive Order 12866 requires agencies to publish an agenda of those regulations that are under consideration pursuant to this order. By memorandum of January 21, 2011, the Office of Management and Budget issued guidelines and procedures for the preparation and publication of the spring 2011 Unified Agenda of Federal Regulatory and Deregulatory Actions. The Regulatory Flexibility Act, 5 U.S.C. 601 et seq., requires agencies to publish, in the spring and fall of each year, a regulatory flexibility agenda that contains a brief description of the subject of any rule likely to have a significant economic impact on a substantial number of small entities. The agenda also identifies those entries that have been selected for periodic review under section 610 of the Regulatory Flexibility Act.

In addition, beginning with the fall 2007 edition, the Internet became the basic means for disseminating the Unified Agenda. The complete Unified Agenda will be available online at www.reginfo.gov, in a format that offers users a greatly enhanced ability to obtain information from the Agenda database.

Because publication in the Federal Register is mandated for the regulatory flexibility agendas required by the Regulatory Flexibility Act (5 U.S.C. 602), the Department of Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the Internet. In addition, for fall editions of the Agenda, the entire Regulatory Plan will continue to be printed in the Federal Register, as in past years, including the Department of Commerce's Regulatory Plan.

Within the Department, the Office of the Secretary and various operating units may issue regulations. Operating units, such as the National Oceanic and Atmospheric Administration (NOAA), the Bureau of Industry and Security, and the Patent and Trademark Office issue the greatest share of the Department's regulations.

A large number of regulatory actions reported in the Agenda deal with fishery management programs of NOAA's National Marine Fisheries Service (NMFS). To avoid repetition of programs and definitions, as well as to provide some understanding of the technical and institutional elements of the NMFS programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone (EEZ). The EEZ refers to those waters from the outer edge of the State boundaries, generally 3 nautical miles, to a distance of 200 nautical miles. Fishery Management Plans (FMPs) are to be prepared for fisheries that require conservation and management measures. Regulations implementing these FMPs regulate domestic fishing and foreign fishing where permitted. Foreign fishing may be conducted in a fishery in which there is no FMP only if a preliminary fishery management plan has been issued to govern that foreign fishing. Under the Act, eight Regional Fishery Management Councils (Councils) prepare FMPs or amendments to FMPs for fisheries within their respective areas. In the development of such plans or amendments and their implementing regulations, the Councils are required by law to conduct public hearings on the draft plans and to consider the use of alternative means of regulating.

The Council process for developing FMPs and amendments makes it difficult for NMFS to determine the significance and timing of some regulatory actions under consideration by the Councils at the time the semiannual regulatory agenda is published.

The Department's spring 2011 regulatory agenda follows.

Cameron F. Kerry,
General Counsel.

International Trade Administration—Long-Term Actions
Sequence No. | Title | Regulation Identifier No.
39 | Commercial Availability of Fabric and Yarn | 0625-AA59

National Oceanic and Atmospheric Administration—Proposed Rule Stage
Sequence No. | Title | Regulation Identifier No.
40 | American Lobster Fishery; Fishing Effort Control Measures To Complement Interstate Lobster Management Recommendations by the Atlantic States Marine Fisheries Commission | 0648-AT31
41 | Collection and Use of Tax Identification Numbers from Holders of and Applicants for National Marine Fisheries Service Permits | 0648-AV76
42 | Marine Mammal Protection Act Stranding Regulation Revisions | 0648-AW22
43 | Regulatory Amendment To Correct and Clarify Amendment 13 and Subsequent Frameworks of the Northeast Multispecies Fishery Management Plan | 0648-AW95
44 | Amendment 11 to the Atlantic Mackerel, Squid, Butterfish Fishery Management Plan | 0648-AX05
45 | Amendment 30 to the Fishery Management Plan for Bering Sea and Aleutian Islands King and Tanner Crabs Arbitration Regulations | 0648-AX47
46 | Fisheries Off West Coast States and in the Western Pacific; Klamath River Fall Chinook Salmon Rebuilding Plan | 0648-AY06
47 | Amendment 3 to the Spiny Dogfish Fishery Management Plan | 0648-AY12
48 | Generic Amendment for Annual Catch Limits | 0648-AY22
49 | Amendment 14 to the Atlantic Mackerel, Squid, and Butterfish Fishery Management Plan | 0648-AY26
50 | Fisheries in the Western Pacific; Pelagic Fisheries; Purse Seine Fishing With Fish Aggregation Devices | 0648-AY36
51 | Amendment 5 to the Atlantic Herring Fishery Management Plan | 0648-AY47
52 | Amendment 2 to the FMP for the Queen Conch Fishery of Puerto Rico and the U.S. Virgin Islands and Amendment 5 to the Reef Fish FMP of Puerto Rico and the U.S. Virgin Islands | 0648-AY55
53 | Amendment 10 to the Fishery Management Plan for Spiny Lobster in the Gulf of Mexico and South Atlantic | 0648-AY72
54 | Comprehensive Annual Catch Limits Amendment to the Fishery Management Plan for the Snapper Grouper Fishery of the South Atlantic Region | 0648-AY73
55 | Amendment 20 to the Snapper Grouper Fishery Management Plan of the South Atlantic Region | 0648-AY74
56 | Amendment To Recover the Administrative Costs of Processing Permit Applications | 0648-AY81
57 | Amendment To Correct and Clarify Amendment 16 and Subsequent Frameworks of the Northeast Multispecies Fisheries Management Plan | 0648-AY95
58 | Fishing Capacity Reduction Program for the Southeast Alaska Purse Seine Salmon Fishery | 0648-BA13
59 | Amendment 3 to the Atlantic Deep-Sea Red Crab Fishery Management Plan | 0648-BA22
60 | Framework Adjustment 7 to the Monkfish Fishery Management Plan | 0648-BA46
61 | Amendment 6 to the Monkfish Fishery Management Plan | 0648-BA50
62 | Amendment 24 to the Fishery Management Plan for the Snapper Grouper Fishery of the South Atlantic Region | 0648-BA52
63 | Amendment 22 to the Fishery Management Plan for the Snapper Grouper Fishery of the South Atlantic Region | 0648-BA53
64 | Amendment 5 to the Golden Crab Fishery Management Plan of the South Atlantic | 0648-BA60
65 | Atlantic Highly Migratory Species; Electronic Mobile Transmitting Unit Vessel Monitoring Systems | 0648-BA64
66 | Management Measures for Tuna Fisheries Operating in the Eastern Pacific Ocean | 0648-BA66
67 | Amendment 13 to the Coastal Pelagic Species Fishery Management Plan | 0648-BA68
68 | Atlantic Highly Migratory Species; Implementing International Convention for the Conservation of Atlantic Tunas Recommendations on Sharks | 0648-BA69
69 | Amendment 15 to the Atlantic Sea Scallop Fishery Management Plan | 0648-BA71
70 | Framework Adjustment 22 to the Scallop Fishery Management Plan | 0648-BA72
71 | Atlantic Highly Migratory Species Electronic Dealer Reporting Requirements | 0648-BA75
72 | Catch Reporting Regulatory Rulemaking for the Atlantic Herring Fishery | 0648-BA79
73 | Bering Sea Chinook Salmon Economic Data Reporting Program | 0648-BA80
74 | 2011 Summer Flounder, Scup, and Black Sea Bass Recreational Management Measures and Scup Specification Increase (Increased 2011 Total Allowable Landings) | 0648-BA92
75 | Potential Revisions to the Turtle Excluder Device Requirements | 0648-AV04
76 | Marine Mammal Protection Act Permit Regulation Revisions | 0648-AV82
77 | Reduce Sea Turtle Bycatch in Atlantic Trawl Fisheries | 0648-AY61
78 | False Killer Whale Take Reduction Plan (Section 610 Review) | 0648-BA30
79 | Amendment to Regulations Under the Bottlenose Dolphin Take Reduction Plan | 0648-BA34
80 | Revision of Hawaiian Monk Seal Critical Habitat | 0648-BA81

National Oceanic and Atmospheric Administration—Final Rule Stage
Sequence No. | Title | Regulation Identifier No.
81 | Amending Regulations for the Pacific Halibut, Sablefish, and Pollock Fisheries Conducted Under the Western Alaska Community Development Quota (CDQ) Program | 0648-AV33
82 | Magnuson-Stevens Fishery Conservation and Management Reauthorization Act (MSRA) Environmental Review Procedure | 0648-AV53
83 | Amendment 4 to the Atlantic Herring Fishery Management Plan | 0648-AW75
84 | Allowable Modifications to the Turtle Excluder Device Requirements | 0648-AW93
85 | Revoke Inactive Quota Share and Annual Individual Fishing Quota from a Holder of Quota Share Under the Pacific Halibut and Sablefish Fixed Gear Individual Fishing Quota Program | 0648-AX91
86 | Amendment 3 to the Fishery Management Plan for Queen Conch Resources of Puerto Rico and the U.S. Virgin Islands Establishing Compatible Regulations With U.S. Virgin Islands Territorial Waters | 0648-AY03
87 | Addendum IV to the Weakfish Interstate Management Plan—Bycatch Trip Limit | 0648-AY41
88 | Fisheries Off West Coast States; Pacific Coast Groundfish Fishery; 2011 to 2012 Biennial Specifications and Management Measures; FMP Amendment 16-5 and FMP Amendment 23 | 0648-BA01
89 | Emergency Rule to Re-Open the Recreational Red Snapper Season in the Gulf of Mexico | 0648-BA06
90 | 2011 Atlantic Bluefish Specifications | 0648-BA26
91 | Framework Adjustment 45 to the Northeast Multispecies Fishery Management Plan | 0648-BA27
92 | Modification of Regulations Governing the Retention of Incidentally-Caught Highly Migratory Species in Atlantic Trawl Fisheries | 0648-BA45
93 | Implementation of a Recreational Seasonal Closure for Greater Amberjack; Regulatory Framework Action to the Fishery Management Plan for Reef Fish Resources of the Gulf of Mexico (FMP) | 0648-BA48
94 | Regulatory Amendment 10 to the Fishery Management Plan for the Snapper Grouper Fishery of the South Atlantic Region | 0648-BA51
95 | Amendment to the Fishery Management Plan for the Reef To Set Total Allowable Catch for Red Snapper | 0648-BA54
96 | Atlantic Highly Migratory Species; Atlantic Bluefin Tuna Quotas and Atlantic Tuna Fisheries Management Measures | 0648-BA65
97 | Framework Adjustment 1 to the Northeast Skate Complex FMP | 0648-BA91
98 | Protective Regulations for Killer Whales in the Northwest Region Under the Endangered Species Act and Marine Mammal Protection Act | 0648-AV15
99 | Revision of Critical Habitat Designation for the Endangered Leatherback Sea Turtle | 0648-AX06
100 | Critical Habitat Designation for Cook Inlet Beluga Whale Under the Endangered Species Act | 0648-AX50
101 | Taking of Marine Mammals Incidental to Specified Activities; Taking Marine Mammals Incidental to Training Operations Conducted Within the Gulf of Mexico Range Complex | 0648-AX86
102 | Endangered and Threatened Species, Designation of Critical Habitat for Southern Distinct Population Segment of Eulachon | 0648-BA38

National Oceanic and Atmospheric Administration—Long-Term Actions
Sequence No. | Title | Regulation Identifier No.
103 | Fishery Management Plan for Regulating Offshore Marine Aquaculture in the Gulf of Mexico | 0648-AS65
104 | Amendment 21 to the Snapper-Grouper Fishery Management Plan of the South Atlantic Region | 0648-BA59
105 | Permits for Capture, Transport, Import, and Export of Protected Species for Public Display, and for Maintaining a Captive Marine Mammal Inventory | 0648-AH26

National Oceanic and Atmospheric Administration—Completed Actions
Sequence No. | Title | Regulation Identifier No.
106 | Maximize Retention and Monitoring Program in the Shore-Based Pacific Whiting Fishery | 0648-AR63
107 | Certification of Nations Whose Fishing Vessels Are Engaged in IUU Fishing or Bycatch of Protected Living Marine Resources | 0648-AV51
108 | Revise Regulations Governing the North Pacific Groundfish Observer Program | 0648-AW24
109 | Regulatory Amendment to the Fishery Management Plan for the Reef Fish Fishery of Puerto Rico Modifying the Bajo de Sico Seasonal Closure | 0648-AY05
110 | Amendment 17A to the Fishery Management Plan for the Snapper Grouper Fishery of the South Atlantic Region | 0648-AY10
111 | Amendment 17B to the Fishery Management Plan for the Snapper Grouper Fishery of the South Atlantic Region | 0648-AY11
112 | Maximized Retention Monitoring Program for Catcher Vessels in the Pacific Whiting Mothership Fishery in the Pacific Coast Groundfish Fishery | 0648-AY17
113 | Regulatory Amendment To Revise Charter Halibut Logbook Submission Requirements | 0648-AY38
114 | Vessel Capacity Limits in the Purse Seine Fishery in the Eastern Pacific Ocean | 0648-AY75
115 | 2011 Specifications for the Atlantic Mackerel, Squid, and Butterfish Fishery | 0648-BA03
116 | Regulatory Amendment to the Reef Fish Fishery Management Plan To Set Total Allowable Catch for Red Grouper | 0648-BA04
117 | Pacific Halibut Fisheries; Catch Sharing Plan | 0648-BA25
118 | Bluefin Tuna Bycatch Reduction in the Gulf of Mexico Pelagic Longline Fishery | 0648-BA39
119 | Take and Import Marine Mammals: Proposed Rule for Take of Marine Mammals Incidental to Routine Operations of 13 Power Generating Stations in Central and Southern California | 0648-AW59
120 | Taking and Importing Marine Mammals; U.S. Naval Surface Warfare Center Panama City Division Mission Activities | 0648-AW80

Patent and Trademark Office—Proposed Rule Stage
Sequence No. | Title | Regulation Identifier No.
121 | Revision of USPTO Fees for Fiscal Year 2011 | 0651-AC43
122 | Revision of USPTO Fees for Fiscal Year 2012 | 0651-AC44

Patent and Trademark Office—Final Rule Stage
Sequence No. | Title | Regulation Identifier No.
123 | Interim Increase on Patent Fees for Fiscal Year 2011 | 0651-AC42

DEPARTMENT OF COMMERCE (DOC)

International Trade Administration (ITA)

Long-Term Actions

39. Commercial Availability of Fabric and Yarn

Legal Authority: Pub. L. 106-200, sec 112(b)(5)(B); Pub. L. 106-200, sec 211; EO 13191; Pub. L. 107-210, sec 3103

Abstract: This rule implements certain provisions of the Trade and Development Act of 2000 (the Act). Title I of the Act (the African Growth and Opportunity Act or AGOA), title II of the Act (the United States-Caribbean Basin Trade Partnership Act or CBTPA), and title XXXI of the Trade Act of 2002 (the Andean Trade Promotion and Drug Eradication Act or ATPDEA) provide for quota- and duty-free treatment for qualifying apparel products from designated beneficiary countries. AGOA and CBTPA authorize quota- and duty-free treatment for apparel articles that are both cut (or knit-to-shape) and sewn or otherwise assembled in one or more designated beneficiary countries from yarn or fabric that is not formed in the United States or a beneficiary country, provided it has been determined that such yarn or fabric cannot be supplied by the domestic industry in commercial quantities in a timely manner. The President has delegated to the Committee for the Implementation of Textile Agreements (the Committee), which is chaired by the Department of Commerce, the authority to determine whether yarn or fabric cannot be supplied by the domestic industry in commercial quantities in a timely manner under the AGOA, the ATPDEA, and the CBTPA, and has authorized the Committee to extend quota- and duty-free treatment to apparel of such yarn or fabric. The rule provides the procedure for interested parties to submit a request alleging that a yarn or fabric cannot be supplied by the domestic industry in commercial quantities in a timely manner, the procedure for public comments, and relevant factors that will be considered in the Committee's determination. The rule also outlines the factors to be considered by the Committee in extending quota- and duty-free treatment.

Timetable:

Action | Date | FR Cite
NPRM | To Be Determined

Regulatory Flexibility Analysis Required: Yes.

Agency Contact: Janet Heinzen, Phone: 202 482-4006, E-mail: janet_heinzen@ita.doc.gov.

RIN: 0625-AA59

DEPARTMENT OF COMMERCE (DOC)

National Oceanic and Atmospheric Administration (NOAA)

Proposed Rule Stage

National Marine Fisheries Service

40. American Lobster Fishery; Fishing Effort Control Measures To Complement Interstate Lobster Management Recommendations by the Atlantic States Marine Fisheries Commission

Legal Authority: 16 U.S.C. 5101 et seq.

Abstract: The National Marine Fisheries Service announces that it is considering, and seeking public comment on, revisions to Federal American lobster regulations for the Exclusive Economic Zone (EEZ) associated with effort control measures as recommended for Federal implementation by the Atlantic States Marine Fisheries Commission (ASFMC) and as outlined in the Interstate Fishery Management Plan (ISFMP) for American Lobster. This action will evaluate effort control measures in certain Lobster Conservation Management Areas including: Limits on future access based on historic participation criteria; procedures to allow trap transfers among qualifiers and impose a trap reduction or conservation tax on any trap transfers; and a trap reduction schedule to meet the goals of the ISFMP.

Timetable:

Action | Date | FR Cite
ANPRM | 05/10/05 | 70 FR 24495
ANPRM Comment Period End | 06/09/05
Notice of Public Meeting | 05/03/10 | 75 FR 23245
NPRM | 07/00/11

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov.

RIN: 0648-AT31

41. Collection and use of Tax Identification Numbers From Holders of and Applicants for National Marine Fisheries Service Permits

Legal Authority: 31 U.S.C. 7701; 16 U.S.C. 1801 et seq.; 16 U.S.C. 1361 et seq.; 16 U.S.C. 1531 et seq.

Abstract: Pursuant to the Debt Collection Improvement Act of 1996 (Debt Collection Act), the National Marine Fisheries Service (NMFS) will issue a rule to require that each existing holder of and future applicant for a permit, license, endorsement, authorization, transfer, or like instrument issued by the agency provide a Taxpayer Identification Number (TIN) (business, employer identification number, or individual's social security number) and Date of Incorporation or Date of Birth, as appropriate. Under the Debt Collection Act, NMFS is required to collect the TIN to report on and collect any delinquent non-tax debt owed to the Federal Government. NMFS plans to use Date of Incorporation or Date of Birth information for administrative aspects of permitting procedures with appropriate confidentiality safeguards pursuant to the Privacy Act. The rule will specify: (a) The particular uses that may be made of the reported TIN; (b) the effects, if any, of not providing the required information; (c) how the information will be used to ascertain if the permit holder or applicant owes delinquent non-tax debt to the Government pursuant to the Debt Collection Act; (d) the effects on the permit holder or applicant when such delinquent debts are owed; and (e) the agency's intended communications with the permit holder or applicant regarding the relationship of such delinquent debts to its permitting process and the need to resolve such debts as a basis for completing permit issuance or renewal. The rule will amend existing agency permit regulations and contain all appropriate modified and new collections-of-information pursuant to the Paperwork Reduction Act.

Timetable:

Action | Date | FR Cite
NPRM | 11/00/11

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, E-mail: alan.risenhoover@noaa.gov.

RIN: 0648-AV76

42. Marine Mammal Protection Act Stranding Regulation Revisions

Legal Authority: 16 U.S.C. 1379; 16 U.S.C. 1382; 16 U.S.C. 1421

Abstract: The National Marine Fisheries Service (NMFS) is considering changes to its implementing regulations (50 CFR 216) governing the taking of stranded marine mammals under section 109(h), section 112(c), and title IV of the Marine Mammal Protection Act and is soliciting public comment to better inform the process. NMFS intends to clarify the requirements and procedures for responding to stranded marine mammals and for determining the disposition of rehabilitated marine mammals, which includes the procedures for the placement of non-releasable animals and for authorizing the retention of releasable rehabilitated marine mammals for scientific research, enhancement, or public display. This action will be analyzed under the National Environmental Policy Act with an Environmental Assessment.

Timetable:

Action | Date | FR Cite
ANPRM | 01/31/08 | 73 FR 5786
ANPRM Comment Period End | 03/31/08
NPRM | 12/00/11

Regulatory Flexibility Analysis Required: Yes.

Agency Contact: David Cottingham, Department of Commerce, National Oceanic and Atmospheric Administration, 1315 East-West Highway, Silver Spring, MD 20910, Phone: 301 713-2322, Fax: 301 713-2521, E-mail: david.cottingham@noaa.gov.

RIN: 0648-AW22

43. Regulatory Amendment To Correct and Clarify Amendment 13 and Subsequent Frameworks of the Northeast Multispecies Fishery Management Plan

Legal Authority: 16 U.S.C. 1801 et seq.

Abstract: This action would make corrections and clarifications to the final rule implementing Amendment 13 to the Northeast Multispecies Fishery Management Plan, as well as subsequent groundfish actions. These corrections are administrative in nature and are intended to correct inaccurate references and other inadvertent errors and to clarify specific regulations to maintain consistency with the intent of Amendment 13 and subsequent actions.

Timetable:

Action | Date | FR Cite
NPRM | 06/00/11

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov..

RIN: 0648-AW95

44. Amendment 11 to the Atlantic Mackerel, Squid, Butterfish Fishery Management Plan

Legal Authority: 16 U.S.C. 1801 et seq.

Abstract: Amendment 11 to the Atlantic Mackerel, Squid, Butterfish Fishery Management Plan may consider: (1) Limited access in the Atlantic mackerel (mackerel) fishery; (2) implementation of annual catch limits (ACLs) and accountability measures (AMs) for mackerel and butterfish required under the Magnuson-Stevens Fishery Conservation and Management Reauthorization Act of 2006 (MSRA); (3) updating of the description and identification of essential fish habitat (EFH) for all life stages of mackerel, Loligo squid, Illex squid, and butterfish (including gear impacts on Loligo squid egg EFH); and (4) possible limitations on at-sea processing of mackerel.

Timetable:

Action | Date | FR Cite
Notice of Intent | 08/11/08 | 73 FR 46590
NPRM | 08/00/11

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov.

RIN: 0648-AX05

45. Amendment 30 to the Fishery Management Plan for Bering Sea and Aleutian Islands King and Tanner Crabs Arbitration Regulations

Legal Authority: 16 U.S.C. 1862; Pub. L. 109-241; Pub. L. 109-479

Abstract: This action would implement Amendment 30 to the Fishery Management Plan for Bering Sea and Aleutian Islands King and Tanner Crabs to make minor modifications to the arbitration system used to settle price and other disputes among harvesters and processors in the Bering Sea/Aleutian Islands crab rationalization program.

Timetable:

Action | Date | FR Cite
NPRM | 06/00/11
Notice of Availability | 06/00/11
Final Rule | 07/00/11

Regulatory Flexibility Analysis Required: Yes.

Agency Contact: Robert D Mecum, Deputy Acting Administrator, Department of Commerce, National Oceanic and Atmospheric Administration, 709 W. 9th Street, Room 420, Juneau, AK 99802, Phone: 907 586-7221, Fax: 907 586-7249, E-mail: robert.mecum@noaa.gov.

RIN: 0648-AX47

46. Fisheries Off West Coast States and in the Western Pacific; Klamath River Fall Chinook Salmon Rebuilding Plan

Legal Authority: 16 U.S.C. 1854

Abstract: This action would adopt a rebuilding plan for the Klamath River fall Chinook salmon (KRFC) stock, which failed to meet conservation objectives specified in the Fishery Management Plan for the 3-year period from 2004 to 2006.

Timetable:

Action | Date | FR Cite
NPRM | 10/00/11
NPRM Comment Period End | 12/00/11

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, E-mail: alan.risenhoover@noaa.gov.

RIN: 0648-AY06

47. Amendment 3 to the Spiny Dogfish Fishery Management Plan

Legal Authority: 16 U.S.C. 1801

Abstract: The New England and Mid-Atlantic Fishery Management Councils (Councils) announce their intention to prepare, in cooperation with NMFS, an Environmental Impact Statement (EIS) in accordance with the National Environmental Policy Act to assess potential effects on the human environment of alternative measures to address several issues regarding the Spiny Dogfish Fishery Management Plan (FMP). Issues that may be addressed include: Initiating a Research Set-Aside provision; specifying the spiny dogfish quota and/or possession limits by sex; adding a recreational fishery to the FMP; identifying commercial quota allocation alternatives; and establishing a limited access fishery.

Timetable:

Action | Date | FR Cite
Notice of Intent | 08/05/09 | 74 FR 39063
Notice of Intent Comment Period End | 09/04/09
Notice of Intent To Prepare an Environmental Impact Statement | 05/13/10 | 75 FR 26920
NPRM | 06/00/11

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov.

RIN: 0648-AY12

48. Generic Amendment for Annual Catch Limits

Legal Authority: 16 U.S.C. 1801

Abstract: The generic amendment is intended to modify five of the Gulf of Mexico Fishery Management Council's Fishery Management Plans (FMPs). These include FMPs for: Reef Fish Resources, Shrimp, Stone Crab, Coral and Coral Reef Resources, and Red Drum. NMFS and the Council will develop these Annual Catch Limits (ACLs) in co-operation with the Scientific and Statistical Committee and the Southeast Fisheries Science Center. NMFS, in collaboration with the Council, will develop a Draft Environmental Impact Statement to evaluate alternatives and actions for the ACLs. Some examples of these actions include: Establishing sector specific ACLs, selecting levels of risk associated with species yields, considering removal or withdrawal of species from FMPs, and delegating species or species assemblages to state regulators.

Timetable:

Action | Date | FR Cite
Notice of Intent | 08/04/09 | 74 FR 47206
NPRM | 06/00/11

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-AY22

49. Amendment 14 to the Atlantic Mackerel, Squid, and Butterfish Fishery Management Plan

Legal Authority: 16 U.S.C. 1801 et seq.

Abstract: The purpose of Amendment 14 is to consider catch shares in the Loligo and Illex fisheries and monitoring/mitigation for river herring bycatch in mackerel, squid and butterfish (MSB) fisheries.

Timetable:

Action | Date | FR Cite
NPRM | 09/00/11

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov.

RIN: 0648-AY26

50. Fisheries in the Western Pacific; Pelagic Fisheries; Purse Seine Fishing With Fish Aggregation Devices

Legal Authority: 16 U.S.C. 1801 et seq.

Abstract: The Western Pacific Council is amending the Pelagics Fishery Ecosystem Plan (FEP) to (1) define fish aggregating devices (FADs) as purposefully deployed or instrumented floating objects; (2) require FADs to be registered; and (3) prohibit purse seine fishing using FADs in the US EEZ of the western Pacific. The objective of this action is to appropriately balance the needs and concerns of the western Pacific pelagic fishing fleets and associated fishing communities with the conservation of tuna stocks in the western Pacific.

Timetable:

Action | Date | FR Cite
NPRM | 10/00/11

Regulatory Flexibility Analysis Required: Yes.

Agency Contact: Alvin Katekaru, Assistant Regional Administrator, Sustainable Fisheries, Department of Commerce, National Oceanic and Atmospheric Administration, 1601 Kapiolani Boulevard, Honolulu, HI 96814, Phone: 808 944-2207, Fax: 808 973-2941, E-mail: alvin.katekaru@noaa.gov.

RIN: 0648-AY36

51. Amendment 5 to the Atlantic Herring Fishery Management Plan

Legal Authority: 16 U.S.C. 1801

Abstract: Amendment 5 to the Atlantic Herring Fishery Management Plan will consider: catch monitoring programs; interactions with river herring; access by herring midwater trawl vessels in groundfish closed areas; and interactions with the mackerel fishery.

Timetable:

Action | Date | FR Cite
NPRM | 09/00/11

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov.

RIN: 0648-AY47

52. Amendment 2 to the FMP for the Queen Conch Fishery of Puerto Rico and the U.S. Virgin Islands and Amendment 5 to the Reef Fish FMP of Puerto Rico and the U.S. Virgin Islands

Legal Authority: 16 U.S.C. 1801

Abstract: The Magnuson-Stevens Fishery Conservation and Management Act (MSRA: Pub. L. 94-265), as amended through January 12, 2007, requires the establishment of annual catch limits (ACLs) and accountability measures (AMs) during 2010 for all species that are considered to be overfished or undergoing overfishing. The present amendment is being promulgated to meet those MSRA mandates as well as to establish framework procedures with which to effect future changes to the management plan and to restructure the fisheries management units for grouper and snapper. Various alternatives are included in the draft amendment, including maintenance of the status quo for each action as well as various alternatives regarding the year-sequences used to establish ACLs and the strategies to be employed to account for overages and to respond to needed changes in management methods.

Timetable:

Action | Date | FR Cite
NPRM | 06/00/11
NPRM Comment Period End | 08/00/11

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-AY55

53. Amendment 10 to the Fishery Management Plan for Spiny Lobster in the Gulf of Mexico and South Atlantic

Legal Authority: 16 U.S.C. 1801

Abstract: The 2006 Reauthorization of the Magnuson-Stevens Fishery Conservation and Management Act (MSFCMA) included a number of changes to improve conservation of managed fishery resources. Included in these changes are requirements that the Regional Councils must establish both a mechanism for specifying annual catch limits (ACLs) at a level such that overfishing does not occur in the fishery, and accountability measures (AMs) to correct if overages occur. Accountability measures are management controls to prevent the ACLs from being exceeded and to correct by either in-season or post-season measures if they do occur. The Spiny Lobster fishery is jointly managed by the Gulf and South Atlantic Councils. Amendment 10 to the FMP will set ACLs and AMs, review current regulations, and implement reasonable and prudent measures from the Biological Opinion.

Timetable:

Action | Date | FR Cite
Notice of Intent | 03/12/10 | 75 FR 11843
Notice of Intent Comment Period End | 04/12/10
NPRM | 11/00/11

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-AY72

54. Comprehensive Annual Catch Limits Amendment to the Fishery Management Plan for the Snapper Grouper Fishery of the South Atlantic Region

Legal Authority: 16 U.S.C. 1801 et seq.

Abstract: The purpose of this amendment is to establish Annual Catch Limits (ACLs) and Accountability Measures (AMs) for species not undergoing overfishing, including management measures to reduce the probability that catches will exceed the stocks' ACLs pursuant to reauthorized Magnuson-Stevens Fishery Conservation and Management Act (Magnuson-Stevens Act) requirements.

Proposed actions include removal of species from the South Atlantic Snapper Grouper Fishery Management Unit; designating some Snapper Grouper species as ecosystem component species; considering multi-species groupings for specifying ACLs, ACTs, and AMs; specifying allocations among the commercial, recreational, and for-hire sectors for species not undergoing overfishing; and modifying management measures to limit total mortality to the ACL.

Timetable:

Action | Date | FR Cite
NPRM | 11/00/11

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-AY73

55. Amendment 20 to the Snapper Grouper Fishery Management Plan of the South Atlantic Region

Legal Authority: 16 U.S.C. 1801 et seq.

Abstract: Amendment 20 to the Fishery Management Plan for the Snapper Grouper Fishery of the South Atlantic Region consists of regulatory actions that focus on modifications to the wreckfish individual transferable quota (ITQ) program, bringing the program into compliance with the Reauthorized Magnuson-Stevens Fishery Conservation and Management Act (Magnuson-Stevens Act), and make other administrative, monitoring, and enforcement changes.

Timetable:

Action | Date | FR Cite
NPRM | 11/00/11 |

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-AY74

56. Amendment to Recover the Administrative Costs of Processing Permit Applications

Legal Authority: 16 U.S.C. 1801 et seq.; 16 U.S.C. 1853; 16 U.S.C. 1854; 16 U.S.C. 3631 et seq.; 16 U.S.C. 773 et seq.; Pub. L. 108-447

Abstract: This action amends the fishery management plans of the North Pacific Fishery Management Council and revises federal regulations at 50 CFR 679 to recover the administrative costs of processing applications for permits required under those plans.

Timetable:

Action | Date | FR Cite
NPRM | 09/00/11 |
Final Rule | 11/00/11 |

Regulatory Flexibility Analysis Required: Yes.

Agency Contact: Robert D Mecum, Deputy Acting Administrator, Department of Commerce, National Oceanic and Atmospheric Administration, 709 W. 9th Street, Room 420, Juneau, AK 99802, Phone: 907 586-7221, Fax: 907 586-7249, E-mail: robert.mecum@noaa.gov.

RIN: 0648-AY81

57. Amendment to Correct and Clarify Amendment 16 and Subsequent Frameworks of the Northeast Multispecies Fisheries Management Plan

Legal Authority: 16 U.S.C. 1801 et seq.

Abstract: This action corrects and clarifies the final rule implementing Amendment 16 to the Northeast Multispecies Fishery Management Plan, as well as subsequent groundfish actions. These corrections are administrative in nature and are intended to correct inaccurate references and other inadvertent errors and to clarify specific regulations to maintain consistency with the intent of Amendment 16 and subsequent actions.

Timetable:

Action | Date | FR Cite
NPRM | 06/00/11 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov.

RIN: 0648-AY95

58. Fishing Capacity Reduction Program for the Southeast Alaska Purse Seine Salmon Fishery

Legal Authority: 16 U.S.C. 1801 et seq.; 46 U.S.C. 53701 et seq.; Pub. L. 108-447; Pub. L. 109-447; Pub. L. 110-161

Abstract: This rule would implement a Capacity Reduction Program for the Southeast Alaska Purse Seine Salmon Fishery, which is a state controlled fishery. This program is voluntary and holders of valid limited entry permits issued by the Alaska Commercial Fisheries Entry Commission to operate in the Southeast Alaska Purse Seine Salmon Fishery are eligible to participate. Permit holders in the program will receive up to $23.5 million, in the aggregate, in exchange for relinquishing permits. NMFS would issue a 30-year loan to finance the buyback and the loan would be repaid by those harvesters remaining in the fishery. The intent of this rule is to permanently reduce the most harvesting capacity in the fishery at the least cost, which should result in increased harvesting productivity for post-reduction permit holders participating in the fishery and should improve flexibility in the conservation and management of the fishery. The rule would also establish a fee collection system to ensure repayment of the loan.

Timetable:

Action | Date | FR Cite
NPRM | 09/00/11 |

Regulatory Flexibility Analysis Required: Yes.

Agency Contact: Gary C Reisner, Director, Office of Management and Budget, Department of Commerce, National Oceanic and Atmospheric Administration, 1315 East-West Highway, Silver Spring, MD 20910, Phone: 301 713-2259, Fax: 301-713-1464, E-mail: gary.reisner@noaa.gov.

RIN: 0648-BA13

59. Amendment 3 to the Atlantic Deep-Sea Red Crab Fishery Management Plan

Legal Authority: 16 U.S.C. 1801

Abstract: This action is required to bring the Atlantic Deep-Sea Red Crab FMP into compliance with the reauthorized Magnuson-Stevens Fishery Conservation and Management Act by incorporating an annual catch limit (ACL) and accountability measures (AMs). The Red Crab FMP may also be modified to implement a “hard quota” (or total allowable landings (TAL)) in place of the current target total allowable catch (TAC) and days-at-sea (DAS) system. Other management measures currently in place may be modified or eliminated.

Timetable:

Action | Date | FR Cite
NPRM | 07/00/11 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov.

RIN: 0648-BA22

60. • Framework Adjustment 7 to the Monkfish Fishery Management Plan

Legal Authority: 16 U.S.C. 1801 et seq.

Abstract: Framework Adjustment 7 to the Monkfish FMP would adjust the annual catch target (ACT) for the Northern Fishery Management Area (NFMA) to be consistent with the most recent scientific advice regarding the acceptable biological catch (ABC) for monkfish. The New England Fishery Management Council's Scientific and Statistical Committee (SSC) has recommended a revision to the ABC, based on the recent stock assessment (SARC 50), that is lower that the ACT for the NFMA proposed in Amendment 5 to the Monkfish FMP. Specifically, the SSC recommended a revised NFMA ABC of 7,592 mt, which is 29 percent lower than the NFMA ACT of 10,750 mt proposed in Amendment 5. Conversely, the recalculated ABC for the Southern Fishery Management Area (SFMA) is 850 mt higher than the Council's recommended ACT for that area. Thus, no change is proposed for the SFMA. Framework 7 would also specify a new day-at-sea (DAS) allocation and trip limits for the NFMA commensurate with the new ACT (as necessary), and adopt revised biomass reference points based on the recommendations of SARC 50 and the SSC.

Timetable:

Action | Date | FR Cite
NPRM | 06/00/11 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov.

RIN: 0648-BA46

61. • Amendment 6 to the Monkfish Fishery Management Plan

Legal Authority: 16 U.S.C. 1801 et seq.

Abstract: The purpose of Amendment 6 to the Monkfish FMP is to consider developing a catch share management program for this fishery. This would very likely also involve the development of a referendum for such a program, as required under the Magnuson-Stevens Fishery Conservation and Management Act.

Timetable:

Action | Date | FR Cite
NPRM | 06/00/11 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov.

RIN: 0648-BA50

62. • Amendment 24 to the Fishery Management Plan for the Snapper Grouper Fishery of the South Atlantic Region

Legal Authority: 16 U.S.C. 1801 et seq.

Abstract: The purpose of the amendment is to implement a rebuilding plan for red grouper in the South Atlantic that would specify annual catch targets and annual catch limits by sector. NMFS notified the Council of the stock status on June 9, 2010; the Magnuson-Stevens Act specifies that measures must be implemented within two years of notification.

Timetable:

Action | Date | FR Cite
NPRM | 06/00/11 |

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-BA52

63. • Amendment 22 to the Fishery Management Plan for the Snapper Grouper Fishery of the South Atlantic Region

Legal Authority: 16 U.S.C. 1801 et seq.

Abstract: The purpose of the amendment is to establish a long-term red snapper fishery management program in the South Atlantic to optimize yield and rebuild the stock, while minimizing socioeconomic impacts. More specifically, these alternatives will consider the elimination of harvest restrictions on red snapper as the stock increases in biomass.

Timetable:

Action | Date | FR Cite
Notice of Intent | 01/03/11 | 76 FR 101
Notice of Intent Comment Period End | 02/14/11 |
NPRM | 11/00/11 |

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov

RIN: 0648-BA53

64. • Amendment 5 to the Golden Crab Fishery Management Plan of the South Atlantic

Legal Authority: 16 U.S.C. 1801 et seq.

Abstract: Golden Crab Amendment 5 examines alternatives for a catch share program to limit participation in the golden crab fishery.

Timetable:

Action | Date | FR Cite
NPRM | 03/00/12 |

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-BA60

65. • Atlantic Highly Migratory Species; Electronic Mobile Transmitting Unit Vessel Monitoring Systems

Legal Authority: 16 U.S.C. 971 et seq.; 16 U.S.C. 1801 et seq.

Abstract: National Marine Fisheries Service (NMFS) is preparing a rule that considers requiring the replacement of currently required Mobile Transmitting Unit (MTU) Vessel Monitoring System (VMS) units with Electronic Mobile Transmitting Unit (E-MTU) VMS units in Atlantic HMS fisheries. The rule would also consider implementing a declaration system where vessels declare target species and gear type used and requiring that a certified marine electrician install all E-MTU VMS units. The purpose of this rulemaking would be to remove out-dated MTU VMS units from service in Atlantic HMS fisheries, provide the National Oceanic and Atmospheric Association Office of Law Enforcement (NOAA OLE) with enhanced communication with HMS vessels at sea, improve enforcement capabilities of current regulations, provide additional flexibility for future management options, and provides a secondary safety capability that has proven useful, but does not replace, primary safety tools such as Emergency Position Indicating Radio Beacons (EPIRB).

Timetable:

Action | Date | FR Cite
NPRM | 06/00/11 |
Final Action | 06/00/11 |

Regulatory Flexibility Analysis Required: Yes.

Agency Contact: Emily Menashes, Acting Director, Office of Sustainable Fisheries, Department of Commerce, National Oceanic and Atmospheric Administration, 1315 East-West Highway, Silver Spring, MD 20910, Phone: 301 713-2234, E-mail: emily.menashes@noaa.gov.

RIN: 0648-BA64

66. • Management Measures for Tuna Fisheries Operating in the Eastern Pacific Ocean

Legal Authority: 16 U.S.C. 951 to 961 and 971 et seq.

Abstract: NMFS proposes regulations under the Tuna Conventions Act of 1950, as amended, to implement decisions of the Inter-American Tropical Tuna Commission (IATTC). At its eighty-first meeting, in September 2010, the IATTC adopted the following three recommendations: (1) Recommendation on Tuna Conservation 2011-2013 (C-10-01); (2) Recommendation on Seabirds (C-10-02); and (3) Recommendation Prohibiting Fishing on Data Buoys (C-10-03). The United States already has domestic seabird conservation measures in place for U.S. longline fisheries that operate in the eastern Pacific Ocean (EPO) that satisfy the requirements under Recommendation C-10-02. Thus, this rule would implement IATTC Recommendations C-10-01 and C-10-03, and update vessel monitoring system (VMS) requirements in the EPO in accordance with IATTC Resolution C-04-06.

This rule would amend current tuna conservation measures in the longline and purse seine fisheries by (1) reducing the duration of the purse seine closure period in the EPO from 73 to 62 days in 2011 and continuing this purse seine closure period in 2012 and 2013; (2) allowing vessel owners to choose between two closure periods each year rather than requiring the entire U.S. fleet to adhere to one closure period; (3) continuing the 500 metric ton bigeye tuna quota for large-scale longline vessels for 2011-2013; (4) renewing the tuna retention program in the purse seine fishery; (5) prohibiting tuna fishing vessels from fishing within one nautical mile of data buoys in the EPO; and (6) requiring tuna fishing vessels over 24 meters in length to install and operate VMS.

Timetable:

Action | Date | FR Cite
NPRM | 06/00/11 |

Regulatory Flexibility Analysis Required: Yes.

Agency Contact: Mark Helvey, Assistant Regional Administrator for Sustainable Fisheries, Department of Commerce, National Oceanic and Atmospheric Administration, 501 West Ocean Boulevard, Long Beach, CA 90802, Phone: 562 980-4040, Fax: 562 980-4047, E-mail: mark.helvey@noaa.gov.

RIN: 0648-BA66

67. • Amendment 13 to the Coastal Pelagic Species Fishery Management Plan

Legal Authority: 16 U.S.C. 1801 et seq.

Abstract: The intent of Amendment 13 to the Coastal Pelagic Species Fishery Management Plan is to revise relevant sections of the plan to ensure they are consistent with the advisory guidelines published in Federal regulations at 50 CFR 600.310. The guidelines describe fishery management approaches to meet the objectives of National Standard 1 (NS1) found in the Magnuson-Stevens Fishery Conservation and Management Act (MSA), Section 301. Amendment 13 includes mechanisms for annual catch limits and accountability measures and other provisions for preventing and ending overfishing.

Timetable:

Action | Date | FR Cite
NPRM | 06/00/11 |

Regulatory Flexibility Analysis Required: Yes.

Agency Contact: Mark Helvey, Assistant Regional Administrator for Sustainable Fisheries, Department of Commerce, National Oceanic and Atmospheric Administration, 501 West Ocean Boulevard, Long Beach, CA 90802, Phone: 562 980-4040, Fax: 562 980-4047, E-mail: mark.helvey@noaa.gov.

RIN: 0648-BA68

68. • Atlantic Highly Migratory Species; Implementing International Convention for the Conservation of Atlantic Tunas Recommendations on Sharks

Legal Authority: 16 U.S.C. 1801 et seq.; 16 U.S.C. 971 et seq.

Abstract: This action would implement two recommendations adopted at the 2010 annual meeting of the International Commission for the Conservation of Atlantic Tunas (ICCAT). Recommendation 10-07 prohibits the retention, transshipping, landing, storing, or selling of oceanic whitetip sharks. Recommendation 10-08 prohibits the retention, transshipping, landing, storing, or selling of hammerhead sharks in the family Sphyrnidae, except for Sphyrnidae tiburo, taken in the Convention area in association with ICCAT fisheries.

Timetable:

Action | Date | FR Cite
NPRM | 06/00/11 |
Final Action | 07/00/11 |

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, E-mail: margo.schulze-haugen@noaa.gov.

RIN: 0648-BA69

69. • Amendment 15 to the Atlantic Sea Scallop Fishery Management Plan

Legal Authority: 16 U.S.C. 1801 et seq.

Abstract: Amendment 15 to the Atlantic Sea Scallop Fishery Management Plan (Scallop FMP) was developed by the New England Fishery Management Council (Council) to implement annual catch limits (ACLs) and accountability measures (AMs) to come into compliance with new requirements of the Magnuson-Stevens Fishery Conservation and Management Act (MSA). In addition, Amendment 15 to the Scallop FMP includes measures that would make management of the scallop fishery more effective including: Modification of the overfishing definition for scallops; an increase in the possession limit for limited access general category (LAGC) vessels; an allowance for carryover of individual fishing quota (IFQ) for LAGC vessels; a provision to enable LAGC vessel owners to permanently transfer IFQ separate from the vessel's LAGC permit; revision of the essential fish habitat closures under the Scallop FMP; and several changes to the scallop research set aside program.

Timetable:

Action | Date | FR Cite
Notice of Availability | 03/24/11 | 76 FR 16595
NPRM | 06/00/11 |
Final Action | 08/00/11 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov.

RIN: 0648-BA71

70. • Framework Adjustment 22 to the Scallop Fishery Management Plan

Legal Authority: 16 U.S.C. 1801

Abstract: Framework 22 to the Atlantic Sea Scallop FMP (Framework 22) would set management measures for the scallop fishery for the 2011 to 2013 fishing years (FYs), including the annual catch limits (ACL) and annual catch targets for the limited access and limited access general category fleets based on the ACL framework proposed in Amendment 15 to the FMP. In addition, Framework 22 will revise the scallop access area schedules for FYs 2011 to 2013, set the scallop days-at-sea (DAS) allocations and sea scallop access area trip allocations, and set measures to minimize impacts of incidental take of sea turtles in the Mid-Atlantic total allowable catches (TACs) for the Northern Gulf of Maine management area, observer set-aside, and incidental landings (target TAC).

Timetable:

Action | Date | FR Cite
NPRM | 06/00/11 |
Final Action | 06/00/11 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov.

RIN: 0648-BA72

71. • Atlantic Highly Migratory Species Electronic Dealer Reporting Requirements

Legal Authority: 16 U.S.C. 1801 et seq.

Abstract: This rulemaking would require all federally-permitted Atlantic Highly Migratory Species (HMS) dealers to report commercially-caught HMS (i.e., Atlantic sharks, tunas, and swordfish) to the National Marine Fisheries Service (NMFS) through an electronic reporting system. In addition, this rulemaking would clarify that a dealer is only authorized to buy commercially-caught HMS if the dealer reports have been submitted to NMFS in a timely manner. Any delinquent reports would need to be submitted and accepted before a dealer could buy commercially-caught HMS. Finally, this rulemaking would require that all commercially harvested HMS caught by federally-permitted fishermen be offloaded to federally-permitted and certified HMS dealers, who must report the associated catch to NMFS. These measures are necessary to ensure timely and accurate reporting, which is critical for quota monitoring and management of HMS.

Timetable:

Action | Date | FR Cite
NPRM | 06/00/11 |
NPRM Comment Period End | 07/00/11 |

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, E-mail: margo.schulze-haugen@noaa.gov.

RIN: 0648-BA75

72. • Catch Reporting Regulatory Rulemaking for the Atlantic Herring Fishery

Legal Authority: 16 U.S.C. 1801 et seq.

Abstract: The goal of the catch reporting rulemaking is to improve monitoring of the annual catch limit (ACL) and sub-ACLs for each management area in the Atlantic herring fishery. Requirements under consideration include: Daily reporting via vessel monitoring systems for limited access herring vessels, weekly reporting via the interactive voice response system for open access vessels, and weekly submission of vessel trip reports for limited access and/or open access vessels.

Timetable:

Action | Date | FR Cite
NPRM | 06/00/11 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov.

RIN: 0648-BA79

73. • Bering Sea Chinook Salmon Economic Data Reporting Program

Legal Authority: 16 U.S.C. 1801 et seq.; 16 U.S.C. 1851; 16 U.S.C. 3631 et seq.

Abstract: NMFS proposes to implement the Chinook Salmon Economic Data Program to evaluate the effectiveness of Chinook salmon bycatch management measures for the Bering Sea pollock fishery that were implemented under Amendment 91 to the Fishery Management Plan for Groundfish of the Bering Sea and Aleutian Islands Management Area (FMP). The proposed rule is intended to promote the goals and objectives of the FMP, the Magnuson-Stevens Fishery Conservation and Management Act and other applicable law.

To collect the data, NMFS would require submission of each of the following three reports/surveys. These would be in a fillable electronic format available on the NMFS AKR website. Representatives of AFA catcher/processor and mothership sectors, inshore cooperatives, the inshore open access fishery, and CDQ groups would be responsible to submit the Chinook EDR. The Reports/Surveys are: Chinook Salmon PSC Allocation Compensated Transfer Report (CTR); Vessel Fuel Survey; and the Vessel Master Survey.

In addition to these reports/surveys, NMFS would collect new information concerning vessel movements on the fishing grounds and more general data on pollock allocations and transfers through revisions of requirements to the existing IPA Annual Report.

Timetable:

Action | Date | FR Cite
NPRM | 06/00/11 |
Final Rule | 09/00/11 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, E-mail: jim.balisger@noaa.gov.

RIN: 0648-BA80

74. • 2011 Summer Flounder, Scup, and Black Sea Bass Recreational Management Measures and Scup Specification Increase (Increased 2011 Total Allowable Landings)

Legal Authority: 16 U.S.C. 1801

Abstract: This rulemaking would conduct two related actions: It would publish a proposed increase to the previously established 2011 scup TAC and TAL and would propose management measures to achieve recreational harvest limits for the summer flounder, scup, and black sea bass recreational fisheries. Recreational management measures include recreational possession limits, minimum fish sizes, and seasonal closures.

Timetable:

Action | Date | FR Cite
NPRM | 06/00/11 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov.

RIN: 0648-BA92

75. Potential Revisions to the Turtle Excluder Device Requirements

Legal Authority: 16 U.S.C. 1533

Abstract: With this action, the National Marine Fisheries Service (NMFS) announces that it is considering technical changes to the requirements for turtle excluder devices (TEDs) and solicits public comment. Specifically, NMFS would modify the size of the TED escape opening currently required in the summer flounder fishery; require the use of TEDs in the whelk, calico scallop, and Mid-Atlantic scallop trawl fisheries; require the use of TEDs in flynets; and move the current northern boundary of the Summer Flounder Fishery-Sea Turtle Protection Area off Cape Charles, Virginia, to a point farther north.

Timetable:

Action | Date | FR Cite
ANPRM | 02/15/07 | 72 FR 7382
ANPRM Comment Period End | 03/19/07 |
ANPRM Comment Period Extended | 03/19/07 | 72 FR 12749
NPRM | 10/00/11 |
NPRM Comment Period End | 12/00/11 |

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-AV04

76. Marine Mammal Protection Act Permit Regulation Revisions

Legal Authority: 16 U.S.C. 1374

Abstract: The National Marine Fisheries Service (NMFS) is considering changes to its implementing regulations (50 CFR 216) governing the issuance of permits for scientific research and enhancement activities under section 104 of the Marine Mammal Protection Act and is soliciting public comment to better inform the process. NMFS intends to streamline and clarify general permitting requirements and requirements for scientific research and enhancement permits, simplify procedures for transferring marine mammal parts, possibly apply the General Authorization (GA) to research activities involving Level A harassment of non-endangered marine mammals, and implement a “permit application cycle” for application submission and processing of all marine mammal permits. NMFS intends to write regulations for marine mammal photography permits and is considering whether this activity should be covered by the GA.

Timetable:

Action | Date | FR Cite
ANPRM | 09/13/07 | 72 FR 52339
ANPRM Comment Period Extended | 10/15/07 | 72 FR 58279
ANPRM Comment Period End | 11/13/07 | 72 FR 52339
ANPRM Comment Period Extended End | 12/13/07 | 72 FR 58279
NPRM | 11/00/11 |

Regulatory Flexibility Analysis Required: Yes.

Agency Contact: Dr. Michael Payne, Fishery Biologist, Department of Commerce, National Oceanic and Atmospheric Administration, P.O. Box 21668, Juneau, AK 99802, Phone: 907 586-7235, Fax: 301 713-2521, E-mail: michael.payne@noaa.gov.

RIN: 0648-AV82

77. Reduce Sea Turtle Bycatch in Atlantic Trawl Fisheries

Legal Authority: 16 U.S.C. 1531 et seq.

Abstract: NMFS is initiating a rulemaking action to reduce injury and mortality to endangered and threatened sea turtles resulting from incidental take, or bycatch, in trawl fisheries in the Atlantic waters. NMFS will likely address the size of the turtle excluder device (TED) escape opening currently required in the summer flounder trawl fishery, the definition of a summer flounder trawler, and the use of TEDs in this fishery; the use of TEDs in the croaker and weakfish flynet, whelk, Atlantic sea scallop, and calico scallop trawl fisheries of the Atlantic Ocean; and new seasonal and temporal boundaries for TED requirements. In addition, this rule will address the definition of the Gulf Area applicable to the shrimp trawl fishery in the southeast Atlantic and Gulf of Mexico. The purpose of the rule is to aid in the protection and recovery of listed sea turtle populations by reducing mortality in trawl fisheries through the use of TEDs.

Timetable:

Action | Date | FR Cite
NPRM | 07/00/11 |

Regulatory Flexibility Analysis Required: Yes.

Agency Contact: Alexis Gutierrez, Foreign Affairs Specialist, Department of Commerce, National Oceanic and Atmospheric Administration, 1315 East-West Highway, Silver Spring, MD 20910, Phone: 301 713-2322, Fax: 301 713-4060, E-mail: alexis.gutierrez@noaa.gov.

RIN: 0648-AY61

78. • False Killer Whale Take Reduction Plan (Section 610 Review)

Legal Authority: 16 U.S.C. 1361 et seq.

Abstract: NMFS is undertaking rulemaking to implement a False Killer Whale Take Reduction Plan (FKWTRP). The FKWTRP is based on consensus recommendations submitted by the False Killer Whale Take Reduction Team (FKWTRT). This action is necessary because current serious injury and mortality rates of the Hawaii Pelagic stock of false killer whales incidental to the Category I Hawaii-based deep-set (tuna target) longline fishery and Category II Hawaii-based shallow-set (swordfish target) fishery are above the stock's potential biological removal (PBR) level, and therefore inconsistent with the short-term goal of the Marine Mammal Protection Act (MMPA). Additionally, serious injury and mortality rates of the Hawaii Insular stock and Palmyra Atoll stocks of false killer whales incidental to the Hawaii-based deep-set longline fishery are above insignificant levels approaching a zero mortality and serious injury rate, and therefore inconsistent with the long-term goal of the MMPA. The FKWTRP is intended to meet the statutory mandates and requirements of the MMPA through both regulatory and non-regulatory measures, and research and data collection priorities.

Timetable:

Action | Date | FR Cite
NPRM | 06/00/11 |

Regulatory Flexibility Analysis Required: Yes.

Agency Contact: Kristy Long, Fisheries Biologist, Department of Commerce, National Oceanic and Atmospheric Administration, Room 13738, 1315 East-West Highway, Silver Spring, MD 20910, Phone: 301 713-2322, Fax: 301 427-2522, E-mail: kristy.long@noaa.gov.

RIN: 0648-BA30

79. • Amendment to Regulations Under the Bottlenose Dolphin Take Reduction Plan

Legal Authority: 16 U.S.C. 1361 et seq.

Abstract: Serious injury and mortality of the Western North Atlantic bottlenose dolphin stocks incidental to Category I and II fisheries continue at levels potentially exceeding Potential Biological Removal (PBR) levels, requiring additional management measures under the Bottlenose Dolphin Take Reduction Plan (BDTRP). Therefore, the purpose of the proposed actions is to amend the BDTRP to reduce serious injury and mortality of bottlenose dolphins in the Virginia pound net fishery (Category II) and mid-Atlantic gillnet fishery (Category I) in North Carolina, specifically, the spiny dogfish fishery. The need for the proposed actions is to ensure the BDTRP meets its MMPA mandated short- and long-term goals. NMFS will examine a number of management measures, including consensus recommendations from the Bottlenose Dolphin Take Reduction Team, designed to reduce the incidental mortality or serious injury of bottlenose dolphins taken in both the Virginia pound net fishery and spiny dogfish fishery in North Carolina to below PBR, as well as other updates supporting the objectives of the BDTRP.

Timetable:

Action | Date | FR Cite
NPRM | 09/00/11 |

Regulatory Flexibility Analysis Required: Yes.

Agency Contact: Stacey Leah Carlson, Fishery Biologist, Department of Commerce, National Oceanic and Atmospheric Administration, 263 13th Avenue South, St. Petersburg, FL 33701, Phone: 727 824-5312, Fax: 727 824-5309, E-mail: stacey.carlson@noaa.gov.

RIN: 0648-BA34

80. • Revision of Hawaiian Monk Seal Critical Habitat

Legal Authority: 16 U.S.C. 1533

Abstract: On July 9, 2008, NMFS received a petition from the Center for Biological Diversity, Kahea, and the Ocean Conservancy to revise the Hawaiian monk seal critical habitat designation by adding the following areas in the main Hawaiian Islands (MHI): Key beach areas, sand spits and islets, including all beach crest vegetation to its deepest extent inland, lagoon waters, inner reef waters, and ocean waters out to a depth of 200 m. In addition, the Petitioners requested that designated critical habitat in the NWHI be extended to include Sand Island at Midway, as well as ocean waters out to a depth of 500 meters. On October 3, 2008, NMFS announced in the 90-day finding that the petition presented substantial scientific information indicating that a revision to the current critical habitat designation may be warranted. On June 12, 2009, in the 12-month finding, NMFS announced that a revision to critical habitat is warranted, on account of new information available regarding habitat use by the Hawaiian monk seal, and announced our intention to proceed towards a proposed rule. This proposed rule describes the proposed critical habitat designation, including supporting information on Hawaiian monk seal biology, distribution, and habitat use, and the methods used to develop the proposed revision to Hawaiian monk seal critical habitat.

Timetable:

Action | Date | FR Cite
NPRM | 06/00/11 |
Final Action | 07/00/11 |

Regulatory Flexibility Analysis Required: Yes.

Agency Contact: Marta Nammack, Office of Protected Resources, Department of Commerce, National Oceanic and Atmospheric Administration, 1315 East-West Highway, Silver Spring, MD 20910, Phone: 301 713-1401, Fax: 301 427-2523, E-mail: marta.nammack@noaa.gov.

RIN: 0648-BA81

DEPARTMENT OF COMMERCE (DOC)

National Oceanic and Atmospheric Administration (NOAA)

Final Rule Stage

National Marine Ffisheries Sservice

81. Amending Regulations for the Pacific Halibut, Sablefish, and Pollock Fisheries Conducted Under the Western Alaska Community Development Quota (CDQ) Program

Legal Authority: 16 U.S.C. 1801 et seq.; 16 U.S.C. 773 et seq.; 16 U.S.C. 3631 et seq.; Pub. L. 108-447

Abstract: NMFS proposes to amend regulations that govern fisheries managed under the Western Alaska Community Development Quota (CDQ) Program. These revisions are needed to comply with certain changes made to the Magnuson-Stevens Fishery Conservation and Management Act (Magnuson-Stevens Act) in 2006. Proposed changes include revising regulations associated with recordkeeping, vessel licensing, catch retention requirements, and fisheries observer requirements to ensure that they are no more restrictive than the regulations in effect for comparable non-CDQ fisheries managed under individual fishing quotas or cooperative allocations. In addition, NMFS proposes to remove CDQ Program regulations that now are inconsistent with the Magnuson-Stevens Act, including regulations associated with the CDQ allocation process, transfer of groundfish CDQ and halibut prohibited species quota, and the oversight of CDQ groups' expenditures.

Timetable:

Action | Date | FR Cite
NPRM | 07/13/10 | 75 FR 39892
NPRM Comment Period End | 08/12/10 |
Final Rule | 07/00/11 |

Regulatory Flexibility Analysis Required: Yes.

Agency Contact: Robert D Mecum, Deputy Acting Administrator, Department of Commerce, National Oceanic and Atmospheric Administration, 709 W. 9th Street, Room 420, Juneau, AK 99802, Phone: 907 586-7221, Fax: 907 586-7249, E-mail: robert.mecum@noaa.gov.

RIN: 0648-AV33

82. Magnuson-Stevens Fishery Conservation and Management Reauthorization Act (MSRA) Environmental Review Procedure

Legal Authority: 16 U.S.C. 1801

Abstract: Section 107 of the Magnuson-Stevens Fishery Conservation and Management Reauthorization Act (MSRA) (Pub.L. 109-479) requires NOAA Fisheries to revise and update agency procedures for complying with the National Environmental Policy Act (NEPA) in context of fishery management actions. It further requires that NOAA Fisheries consult with the Council on Environmental Quality (CEQ) and the Regional Fishery Management Councils (Councils), and involve the public in the development of the revised procedures. The MSRA provides that the resulting procedures will be the sole environmental impact assessment procedure for fishery management actions, and that they must conform to the time lines for review and approval of fishery management plans and plan amendments. They must also integrate applicable environmental analytical procedures, including the time frames for public input, with the procedure for the preparation and dissemination of fishery management plans, plan amendments and other actions taken or approved pursuant to this Act in order to provide for timely, clear and concise analysis that is useful to decision makers and the public, reduce extraneous paperwork, and effectively involve the public.

This rule would revise and update the NMFS procedures for complying with NEPA in the context of fishery management actions developed pursuant to MSRA.

Timetable:

Action | Date | FR Cite
NPRM | 05/14/08 | 73 FR 27998
NPRM Comment Period End | 06/13/08 |
Final Action | 10/00/11 |

Regulatory Flexibility Analysis Required: Yes.

Agency Contact: Steve Leathery, Department of Commerce, National Oceanic and Atmospheric Administration, 1315 East-West Highway, Silver Spring, MD 20910, Phone: 301 713-2239, E-mail: steve.leathery@noaa.gov.

RIN: 0648-AV53

83. Amendment 4 to the Atlantic Herring Fishery Management Plan

Legal Authority: 16 U.S.C. 1801 et seq.

Abstract: The goal of Amendment 4 is to improve catch monitoring and ensure compliance with the Reauthorized Magnuson-Stevens Fishery Conservation and Management Act (MSRA). The management measures developed in this amendment may address one or more of the following objectives: (1) To implement measures to improve the long-term monitoring of catch (landings and bycatch) in the herring fishery; (2) to implement annual catch limits and accountability measures consistent with the MSRA; (3) to implement other management measures as necessary to ensure compliance with the new provisions of the MSRA; (4) to develop a sector allocation process or other limited access privilege program for the herring fishery; and (5) in the context of objectives 1-4 (above), to consider the health of the herring resource and the important role of herring as a forage fish and a predator fish throughout its range.

The New England Fishery Management Council will develop conservation and management measures to address the issues identified above and meet the goals/objectives of the amendment. Any conservation and management measures developed in this amendment also must comply with all applicable laws.

Timetable:

Action | Date | FR Cite
Notice of Intent | 05/08/08 | 73 FR 26082
Notice of Availability | 08/12/10 | 75 FR 48920
Notice of Availability Comment Period End | 10/12/10
NPRM | 10/18/10 | 75 FR 63791
NPRM Comment Period End | 12/02/10
Final Action | 06/00/11

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov.

RIN: 0648-AW75

84. Allowable Modifications to the Turtle Excluder Device Requirements

Legal Authority: 16 U.S.C. 1531 et seq.

Abstract: NMFS proposes to revise the Turtle Excluder Device (TED) requirements to allow new materials and modifications to existing approved TED designs. Specifically, proposed allowable modifications include the use of flat bar, box pipe, and oval pipe for use in currently-approved TED grids; an increase in mesh size on escape flaps from 1⅝ inches to 2 inches; the use of the Boone single straight cut and triangular escape openings; specifications on the use of TED grid brace bars; and the use of the Chauvin Shrimp Kicker to improve shrimp retention.

Timetable:

Action | Date | FR Cite
NPRM | 09/02/10 | 75 FR 53925
NPRM Comment Period End | 10/18/10
Final Action | 06/00/11

Regulatory Flexibility Analysis Required: Yes.

Agency Contact: Michael Barnette, Fishery Biologist, Department of Commerce, National Oceanic and Atmospheric Administration, 263 Thirteenth Avenue South, St. Petersburg, FL 33701, Phone: 727 551-5794, Fax: 727 824-5583, E-mail: michael.barnette@noaa.gov.

RIN: 0648-AW93

85. Revoke Inactive Quota Share and Annual Individual Fishing Quota From a Holder of Quota Share Under the Pacific Halibut and Sablefish Fixed Gear Individual Fishing Quota Program

Legal Authority: 16 U.S.C. 1801 et seq.; 16 U.S.C. 773

Abstract: This action would amend existing commercial fishing regulations for the fixed-gear Pacific Halibut and sablefish individual fishing quota program at 50 CFR 679. The amendment would revoke inactive quota share unless the quota share permit holder affirmatively notices NMFS in writing within 60 days of the agency's preliminary determination of inactivity that they choose to (a) retain the inactive IFQ quota share, (b) activate the quota share through transfer or by fishing, or (c) appeal the preliminary determination. Quota share that is not activated through this process and is revoked would be proportionally distributed to the quota share pool. This regulatory revision is based on the recommendations of the North Pacific Fishery Management Council in June 2006 and again in February 2009. Amending the regulations would improve the efficiency of the Pacific Halibut and Sablefish IFQ program and augment operational flexibility of participating fisherman.

Timetable:

Action | Date | FR Cite
NPRM | 08/23/10 | 75 FR 51741
NPRM Comment Period End | 09/22/10
Final Rule | 06/00/11

Regulatory Flexibility Analysis Required: Yes.

Agency Contact: Robert D Mecum, Deputy Acting Administrator, Department of Commerce, National Oceanic and Atmospheric Administration, 709 W. 9th Street, Room 420, Juneau, AK 99802, Phone: 907 586-7221, Fax: 907 586-7249, E-mail: robert.mecum@noaa.gov.

RIN: 0648-AX91

86. Amendment 3 to the Fishery Management Plan for Queen Conch Resources of Puerto Rico and the U.S. Virgin Islands Establishing Compatible Regulations With U.S. Virgin Islands Territorial Waters

Legal Authority: 16 U.S.C. 1801 et seq.

Abstract: At the June 2009 Council meeting, the Caribbean Fishery Management Council decided to amend the Fishery Management Plan for Queen Conch Resources of Puerto Rico and the U.S. Virgin Islands (U.S.V.I.) to establish compatible regulations with U.S.V.I. territorial regulations. Currently, fishing for and possession of Queen Conch is prohibited in the Exclusive Economic Zone, with the exception of an area known as Lang Bank east of St. Croix, which is open to harvest of Queen Conch from October 1 through June 30. In U.S.V.I. territorial waters, Queen Conch is managed under a 50,000 pound quota. This action would implement compatible regulations which will close the harvest of Queen Conch in Federal waters, including Lang Bank, once the quota has been reached in the U.S.V.I. and the fishery is closed in territorial waters.

Timetable:

Action | Date | FR Cite
NPRM | 01/20/11 | 76 FR 3596
NPRM Comment Period End | 02/22/11
Final Action | 06/00/11

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-AY03

87. Addendum IV to the Weakfish Interstate Management Plan—Bycatch Trip Limit

Legal Authority: 16 U.S.C. 5101

Abstract: NMFS proposes regulations that would modify management restrictions in the Federal weakfish fishery in a manner consistent with the Commission's Weakfish Management Board's (Board) approved Addendum IV to Amendment 4 to the ISFMP for Weakfish. In short, the proposed Federal regulatory change would decrease the incidental catch allowance for weakfish in the EEZ in non-directed fisheries using smaller mesh sizes, from 150 pounds to no more than 100 pounds per day or trip, whichever is longer in duration. In addition it would impose a one fish possession limit on recreational fishers.

Timetable:

Action | Date | FR Cite
NPRM | 05/12/10 | 75 FR 26703
NPRM Comment Period End | 06/11/10
NPRM Comment Period Re-Opened | 06/16/10 | 75 FR 34092
NPRM Comment Period Re-Opened End | 06/30/10
Final Action | 06/00/11

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, E-mail: alan.risenhoover@noaa.gov.

RIN: 0648-AY41

88. Fisheries Off West Coast States; Pacific Coast Groundfish Fishery; 2011 to 2012 Biennial Specifications and Management Measures; FMP Amendment 16-5 and FMP Amendment 23

Legal Authority: 16 U.S.C. 1801 et seq.

Abstract: This rule sets the 2011 to 2012 harvest specifications and management measures for groundfish taken in the U.S. exclusive economic zone off the coasts of Washington, Oregon, and California. This rule also implements Pacific Coast Groundfish Fishery Management Plan Amendments 16-5 and 23.

Timetable:

Action | Date | FR Cite
Notice of Availability | 10/01/10 | 75 FR 60709
NPRM | 11/03/10 | 75 FR 67810
Notice of Availability Comment Period End | 11/30/10
NPRM Comment Period End | 12/03/10
Final Action | 07/00/11

Regulatory Flexibility Analysis Required: Yes.

Agency Contact: Frank Lockhart, Program Analyst, Department of Commerce, National Oceanic and Atmospheric Administration, 7600 Sand Point Way NE., Seattle, WA 98115, Phone: 206 526-6142, Fax: 206 526-6736, E-mail: frank.lockhart@noaa.gov.

RIN: 0648-BA01

89. Emergency Rule to Re-Open the Recreational Red Snapper Season in the Gulf of Mexico

Legal Authority: 16 U.S.C. 1801 et seq.

Abstract: The Gulf of Mexico Fishery Management Council (Council) has requested that NOAA Fisheries Service publish an emergency rule that will provide authority to the Regional Administrator to re-open the recreational red snapper season after the September 30, 2010, end of the fishing season, if it is determined that landings during the June 1-July 23 open season did not meet the quota.

Timetable:

Action | Date | FR Cite
NPRM | 08/16/10 | 75 FR 49883
NPRM Comment Period End | 08/31/10
Final Emergency Rule | 09/24/10 | 75 FR 58335
Final Emergency Rule Extension | 06/00/11

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-BA06

90. • 2011 Atlantic Bluefish Specifications

Legal Authority: 16 U.S.C. 1801

Abstract: This action will establish 2011 Atlantic bluefish specifications, including State-by-State commercial quotas, a recreational harvest limit, and recreational possession limits for Atlantic bluefish off the east coast of the United States. The action also revises the Atlantic bluefish regulations for the specification of overall total allowable landings and the target fishing mortality rate to more clearly reflect the intent of the Atlantic Bluefish Fishery Management Plan.

Timetable:

Action | Date | FR Cite
NPRM | 01/14/11 | 76 FR 2640
NPRM Comment Period End | 01/31/11
Final Action | 06/00/11

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov.

RIN: 0648-BA26

91. • Framework Adjustment 45 to the Northeast Multispecies Fishery Management Plan

Legal Authority: 16 U.S.C. 1801 et seq.

Abstract: The New England Fishery Management Council (Council) is developing Framework Adjustment 45 to the Northeast Multispecies FMP to implement measures to update status determination criteria for pollock; revise the rebuilding program for Georges Bank yellowtail flounder; revise annual catch limits for several stocks; implement additional sectors, including state-sponsored permit banks; modify a scallop exemption area; revise monitoring requirements; and implement a spawning closure area in the Gulf of Maine. These measures are expected to continue efforts to rebuild overfished stocks, minimize costs to industry, and increase the economic efficiency of vessel operations.

Timetable:

Action | Date | FR Cite
NPRM | 03/03/11 | 76 FR 11858
NPRM Comment Period End | 03/18/11
Final Action | 06/00/11

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov.

RIN: 0648-BA27

92. • Modification of Regulations Governing the Retention of Incidentally-Caught Highly Migratory Species in Atlantic Trawl Fisheries

Legal Authority: 16 U.S.C. 1801

Abstract: This rule proposes to modify the regulations governing Atlantic highly migratory species (HMS) to address the retention of incidentally-caught North Atlantic swordfish in squid trawl fisheries, and the retention of incidentally caught species in the smoothhound shark complex (which includes smooth dogfish and Florida smoothhound (genus Mustelus)) in all Atlantic trawl fisheries. Trawl gear is not authorized in Atlantic HMS fisheries, but an allowance for the retention of incidentally-caught swordfish in trawl gears has been established to reduce regulatory discards. This rule would consider modifying the allowance for incidentally-caught HMS in trawl gears to reduce regulatory dead discards, to the extent practicable, by converting discards into landings, improve fishery data collection, provide additional opportunities for the U.S. swordfish quota to be caught, and accommodate traditional fishing methods (i.e., trawls) that incidentally capture North Atlantic swordfish and smoothhound shark species.

Timetable:

Action | Date | FR Cite
NPRM | 03/18/11 | 76 FR 14884
NPRM Comment Period End | 04/17/11
Final Action | 06/00/11

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, E-mail: margo.schulze-haugen@noaa.gov.

RIN: 0648-BA45

93. • Implementation of a Recreational Seasonal Closure for Greater Amberjack; Regulatory Framework Action to the Fishery Management Plan for Reef Fish Resources of the Gulf of Mexico (FMP)

Legal Authority: 16 U.S.C. 1801 et seq.

Abstract: To reduce the probability of early in-season closures for recreational greater amberjack in the Gulf of Mexico, the rule would close the greater amberjack recreational fishing season annually from June 1 through July 31. The intended effect of this rule is to maintain the rebuilding plan targets for the overfished greater amberjack, prevent the annual catch limit from being exceeded, and maximize the number of fishing days available to the recreational sector.

Timetable:

Action | Date | FR Cite
NPRM | 01/24/11 | 76 FR 4084
NPRM Comment Period End | 02/23/11
NPRM Reopening Comment Period | 03/10/11 | 76 FR 13122
NPRM Reopening Comment Period End | 03/25/11
Final Action | 06/00/11

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-BA48

94. • Regulatory Amendment 10 to the Fishery Management Plan for the Snapper Grouper Fishery of the South Atlantic Region

Legal Authority: 16 U.S.C. 1801 et seq.

Abstract: The purpose of the amendment is to reduce the spatial and temporal coverage of the regulations proposed in Amendment 17A to the Snapper Grouper FMP based on the most recent scientific information concerning the red snapper stock in the South Atlantic. The inclusion of a sunset provision to eliminate the prohibition to snapper grouper species in the closure area is also under consideration.

Timetable:

Action | Date | FR Cite
NPRM | 02/18/11 | 76 FR 9530
NPRM Comment Period End | 03/21/11
Final Action | 06/00/11

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-BA51

95. • Amendment to the Fishery Management Plan for the Reef to Set Total Allowable Catch for Red Snapper

Legal Authority: 16 U.S.C. 1801 et seq.

Abstract: This action would adjust the commercial and recreational quotas of red snapper to 3.66 and 3.525 MP, respectively, consistent with the 51:49 ratio for the commercial and recreational allocation of red snapper established in Amendment 1 to the FMP. NOAA Fisheries Service will provide an estimated projection for the number of days in the 2011 recreational fishing season after the 2010 harvest numbers are received.

In addition, NOAA Fisheries Service proposes to make administrative adjustments to the reef fish individual fishing quota program via the authority in 305(d) of the Magnuson-Stevens Act. This action would revise the definition of “actual ex-vessel value” in § 622.2 of the regulations. The intent of this revision is to allow NOAA Fisheries Service to more accurately analyze the total value of the Gulf red snapper and grouper and tilefish fisheries. Similarly, NOAA Fisheries Service is proposing to revise regulations at §§ 622.16 and 622.20 to extend the existing 12-hour maintenance window with an additional 8 hours to allow for more time to conduct end of year maintenance. It also clarifies how fishermen can submit an IFQ landing notification during the maintenance window.

Lastly, NOAA Fisheries Service is proposing to remove an obsolete regulation. Regulations implementing Amendment 30B to the FMP, removed the February 15 to March 15 seasonal closure of the commercial sector of the Gulf reef fish fishery for gag, red grouper, and black grouper. However, NOAA Fisheries Service inadvertently did not remove § 622.45(c)(4) in the final rule for Amendment 30B, which includes the prohibition on the sale/purchase of gag, black grouper, or red grouper harvested from the Gulf by a vessel with a valid Federal commercial permit for Gulf reef fish from February 15 until March 15, each year. This action proposes to remove this obsolete paragraph.

Timetable:

Action | Date | FR Cite
NPRM | 02/22/11 | 76 FR 9735
NPRM Comment Period End | 03/24/11 |
Final Action | 06/00/11 |

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-BA54

96. Atlantic Highly Migratory Species; Atlantic Bluefin Tuna Quotas and Atlantic Tuna Fisheries Management Measures

Legal Authority: 16 U.S.C. 1801 et seq.; 16 U.S.C. 971 et seq.

Abstract: This action would modify Atlantic bluefin tuna (BFT) base quotas for all domestic fishing categories; establish BFT quota specifications for the 2011 fishing year; reinstate pelagic longline target catch requirements for retaining BFT in the Northeast Distant Gear Restricted Area (NED); amend the Atlantic tunas possession at sea and landing regulations to allow removal of tail lobes; and clarify the transfer at sea regulations for Atlantic tunas. This action is necessary to implement recommendations of the International Commission for the Conservation of Atlantic Tunas (ICCAT), as required by the Atlantic Tunas Convention Act (ATCA), and to achieve domestic management objectives under the Magnuson-Stevens Fishery Conservation and Management Act (Magnuson-Stevens Act). NMFS solicits written comments and will hold public hearings to receive oral comments on these actions.

Timetable:

Action | Date | FR Cite
NPRM | 03/14/11 | 76 FR 13583
NPRM—Correction | 03/21/11 | 76 FR 15276
NPRM Comment Period End | 04/14/11 |
NPRM Comment Period End—Correction | 04/28/11 |
Final Action | 06/00/11 |

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, E-mail: margo.schulze-haugen@noaa.gov.

RIN: 0648-BA65

97. Framework Adjustment 1 to the Northeast Skate Complex FMP

Legal Authority: 16 U.S.C. 1801 et seq.

Abstract: Framework Adjustment 1 to the Skate FMP would adjust the possession limits for the skate wing fishery in order to slow the rate of skate wing landings, so that the available Total Allowable Landings limit (TAL) is taken by the fishery over a longer duration in the fishing year than occurred in 2010. The action would also allow vessels that process skate wings at sea to land skate carcasses for sale into the bait market, without counting the carcass landings against the TAL (skate wings are already converted to live weight for monitoring).

Timetable:

Action | Date | FR Cite
NPRM | 04/04/11 | 76 FR 18505
NPRM Comment Period End | 04/19/11 |
Final Action | 06/00/11 |

Regulatory Flexibility Analysis Required: Yes.

Agency Contact: Michael Pentony, Senior Fishery Policy Analyst, Department of Commerce, National Oceanic and Atmospheric Administration, One Blackburn Drive, Gloucester, MA 01930, Phone: 978 281-9283, E-mail: michael.pentony@noaa.gov.

RIN: 0648-BA91

98. Protective Regulations for Killer Whales in the Northwest Region Under the Endangered Species Act and Marine Mammal Protection Act

Legal Authority: 16 U.S.C. 1361 et seq.; 16 U.S.C. 1531-1543

Abstract: The National Marine Fisheries Service (NMFS) is considering whether to propose regulations to protect killer whales (Orcinus orca) in the Pacific Northwest. The Southern Resident killer whale distinct population segment (DPS) was listed as endangered under the Endangered Species Act (ESA) on November 18, 2005 (70 FR 69903). In the final rule announcing the listing, NMFS identified vessel effects, including direct interference and sound, as a potential contributing factor in the recent decline of this population. Both the Marine Mammal Protection Act (MMPA) and the ESA prohibit take, including harassment, of killer whales, but these statutes do not prohibit specified acts. NMFS is now considering whether to propose regulations that would prohibit certain acts, under our general authorities under the ESA and MMPA and their implementing regulations. The Proposed Recovery Plan for Southern Resident killer whales (71 FR 69101; November 29, 2006) includes as a management action the evaluation of current guidelines and the need for regulations and/or protected areas. The scope of this ANPRM encompasses the activities of any person or conveyance that may result in the unauthorized taking of killer whales and/or that may cause detrimental individual-level and population-level impacts. NMFS requests comments on whether—and if so, what type of—conservation measures, regulations, and, if necessary, other measures would be appropriate to protect killer whales from the effects of these activities.

Timetable:

Action | Date | FR Cite
ANPRM | 03/22/07 | 72 FR 13464
ANPRM Comment Period End | 04/23/07 |
NPRM | 07/29/09 | 74 FR 37674
NPRM Comment Period Extended | 10/19/09 | 74 FR 53454
NPRM Comment Period End | 10/27/09 |
NPRM Comment Period End Extended | 01/15/10 |
Final Rule | 06/00/11 |

Regulatory Flexibility Analysis Required: Yes.

Agency Contact: James H. Lecky, Director, Office of Protected Resources, Department of Commerce, National Oceanic and Atmospheric Administration, 1315 East-West Highway, Silver Spring, MD 20910, Phone: 301 713-2332, Fax: 301 427-2520, E-mail: jim.lecky@noaa.gov.

RIN: 0648-AV15

99. Revision of Critical Habitat Designation for the Endangered Leatherback Sea Turtle

Legal Authority: 16 U.S.C. 1531 et seq.

Abstract: The National Marine Fisheries Service announces a rule to revise leatherback turtle (Dermochelys coriacea) critical habitat under the Endangered Species Act of 1973, as amended. The leatherback is currently listed as endangered throughout its range, and critical habitat consists of Sandy Point Beach and adjacent waters, St. Croix, U.S. Virgin Islands. This rule would revise critical habitat to include waters along the U.S. West Coast.

Timetable:

Action | Date | FR Cite
NPRM | 01/05/10 | 75 FR 319
Notice of Public Hearings | 02/01/10 | 75 FR 5015
NPRM Comment Period Extension | 02/19/10 | 75 FR 7434
NPRM Comment Period End | 03/08/10 |
NPRM Comment Period Extension End | 04/19/10 |
Final Action | 06/00/11 |

Regulatory Flexibility Analysis Required: Yes.

Agency Contact: Sara McNulty, Ecologist, Department of Commerce, National Oceanic and Atmospheric Administration, 1315 East-West Highway, Silver Spring, MD 20910, Phone: 301 713-2322, Fax: 301 713-4060, E-mail: sara.mcnulty@noaa.gov.

RIN: 0648-AX06

100. Critical Habitat Designation for Cook Inlet Beluga Whale Under the Endangered Species Act

Legal Authority: 16 U.S.C. 1531 et seq.

Abstract: The National Marine Fisheries Service (NMFS) listed the Cook Inlet beluga whale Distinct Population Segment as endangered under the Endangered Species Act on October 17, 2009. NMFS is required to designate critical habitat no later than one year after the publication of a listing. NMFS intends to publish a proposed rule by October 17, 2009.

Timetable:

Action | Date | FR Cite
ANPRM | 04/14/09 | 74 FR 17131
ANPRM Comment Period End | 05/14/09 |
NPRM | 12/02/09 | 74 FR 63080
NPRM Comment Period Extended | 01/12/10 | 75 FR 1582
NPRM Comment Period End | 02/01/10 |
Final Action | 06/00/11 |

Regulatory Flexibility Analysis Required: Yes.

Agency Contact: Marta Nammack, Office of Protected Resources, Department of Commerce, National Oceanic and Atmospheric Administration, 1315 East-West Highway, Silver Spring, MD 20910, Phone: 301 713-1401, Fax: 301 427-2523, E-mail: marta.nammack@noaa.gov.

RIN: 0648-AX50

101. Taking of Marine Mammals Incidental to Specified Activities; Taking Marine Mammals Incidental to Training Operations Conducted Within the Gulf of Mexico Range Complex

Legal Authority: 16 U.S.C. 1361 et seq.

Abstract: NMFS has received requests from the U.S. Navy (Navy) for authorizations for the take of marine mammals incidental to training and operational activities conducted by the Navy's Atlantic Fleet within Gulf of Mexico (GOMEX) Range Complex for the period beginning December 3, 2009, and ending December 2, 2014. Pursuant to the implementing regulations of the Marine Mammal Protection Act (MMPA), NMFS is proposing regulations to govern that take and requesting information, suggestions, and comments on these proposed regulations.

Timetable:

Action | Date | FR Cite
NPRM | 07/14/09 | 74 FR 33960
NPRM Comment Period End | 08/13/09 |
Final Action | 06/00/11 |

Regulatory Flexibility Analysis Required: Yes.

Agency Contact: James H. Lecky, Director, Office of Protected Resources, Department of Commerce, National Oceanic and Atmospheric Administration, 1315 East-West Highway, Silver Spring, MD 20910, Phone: 301 713-2332, Fax: 301 427-2520, E-mail: jim.lecky@noaa.gov.

RIN: 0648-AX86

102. • Endangered and Threatened Species, Designation of Critical Habitat for Southern Distinct Population Segment of Eulachon

Legal Authority: 16 U.S.C. 1533

Abstract: We, the National Marine Fisheries Service (NMFS), propose to designate critical habitat for the southern Distinct Population Segment (DPS) of Pacific eulachon (Thaleichthys pacificus), which was recently listed as threatened under the Endangered Species Act (ESA). We have proposed 12 specific areas for designation as critical habitat within the states of California, Oregon, and Washington. The proposed areas are a combination of freshwater creeks and rivers and their associated estuaries which comprise approximately 470 km (292 mi) of habitat. Three particular areas are proposed for exclusion after evaluating the impacts and benefits associated with tribal land ownership and management by Indian tribes, but no areas are proposed for exclusion based on economic impacts.

Timetable:

Action | Date | FR Cite
NPRM | 01/05/11 | 76 FR 515
NPRM Comment Period End | 03/07/11 |
Final Action | 06/00/11 |

Regulatory Flexibility Analysis Required: Yes.

Agency Contact: Marta Nammack, Office of Protected Resources, Department of Commerce, National Oceanic and Atmospheric Administration, 1315 East-West Highway, Silver Spring, MD 20910, Phone: 301 713-1401, Fax: 301 427-2523, E-mail: marta.nammack@noaa.gov.

RIN: 0648-BA38

DEPARTMENT OF COMMERCE (DOC)

National Oceanic and Atmospheric Administration (NOAA)

Long-Term Actions

National Marine Fisheries Service

103. Fishery Management Plan for Regulating Offshore Marine Aquaculture in the Gulf of Mexico

Legal Authority: 16 U.S.C. 1801 et seq.

Abstract: The purpose of this fishery management plan (FMP) is to develop a regional permitting process for regulating and promoting environmentally sound and economically sustainable aquaculture in the Gulf of Mexico (Gulf) exclusive economic zone. This FMP consists of ten actions, each with an associated range of management alternatives, which would facilitate the permitting of an estimated 5 to 20 offshore aquaculture operations in the Gulf over the next 10 years, with an estimated annual production of up to 64 million pounds. By establishing a regional permitting process for aquaculture, the Gulf of Mexico Fishery Management Council will be positioned to achieve their primary goal of increasing maximum sustainable yield and optimum yield of federal fisheries in the Gulf by supplementing harvest of wild caught species with cultured product.

Timetable:

Action | Date | FR Cite
Notice of Availability | 06/04/09 | 74 FR 26829
NOA Comment Period End | 08/03/09 |
NPRM | To Be Determined

Regulatory Flexibility Analysis Required: Yes.

Agency Contact: Roy E Crabtree, Phone: 727 824-5305, Fax: 727 824-5308, E-mail: roy.crabtree@noaa.gov.

RIN: 0648-AS65

104. • Amendment 21 to the Snapper-Grouper Fishery Management Plan of the South Atlantic Region

Legal Authority: 16 U.S.C. 1801 et seq.

Abstract: Amendment 21 examines measures to limit participation in the snapper grouper fishery including endorsements, trip limits, and catch share programs.

Timetable:

Action | Date | FR Cite
NPRM | 06/00/12 |

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-BA59

105. Permits for Capture, Transport, Import, and Export of Protected Species for Public Display, and for Maintaining a Captive Marine Mammal Inventory

Legal Authority: 16 U.S.C. 1372(c)

Abstract: This rule will revise and simplify criteria and procedures specific to permits for taking, transporting, importing, and exporting protected species for public display, and provide convenient formats for reporting marine mammal captive holdings and transports as required by amendments made in 1994 to the Marine Mammal Protection Act.

Timetable:

Action | Date | FR Cite
NPRM | 07/03/01 | 66 FR 35209
NPRM Comment Period Extended | 08/22/01 | 66 FR 44109
NPRM Comment Period End | 09/04/01
NPRM Comment Period Extended | 11/02/01
Final Action | To Be Determined

Regulatory Flexibility Analysis Required: Yes.

Agency Contact: Michael Payne, Phone: 907 586-7235, Fax: 301 713-2521, E-mail: michael.payne@noaa.gov.

RIN: 0648-AH26

DEPARTMENT OF COMMERCE (DOC)

National Oceanic and Atmospheric Administration (NOAA)

Completed Actions

106. Maximize Retention and Monitoring Program in the Shore-Based Pacific Whiting Fishery

Legal Authority: 16 U.S.C. 1801 et seq.

Abstract: The Pacific Fishery Management Council (Pacific Council) at their October 21-25, 1996, meeting in San Francisco, California, addressed the treatment and disposition of salmon in the groundfish trawl fisheries, specifically the shore-based whiting fishery. At that meeting, the Pacific Council discussed the retention of salmon in the shore-based whiting fishery and took action to maintain a viable shore-based whiting fishery by using exempted fishing permits (EFPs). These EFPs allowed the shore-based whiting fleet to temporarily deliver unsorted catch to processing plants and provided for the monitoring of incidentally taken salmon until a permanent monitoring program could be implemented. In keeping with the Pacific Council's recommendation, NMFS is proceeding with implementing a monitoring program for the shore-based whiting fishery. This action will aid in the sustainable management of Pacific Coast salmon and groundfish fisheries while providing an important economic opportunity to those associated with the harvest, processing, and selling of whiting taken by the shore-based whiting fleet. The need for implementing a permanent monitoring program in the shore-based Pacific whiting fishery is to provide for a full retention fishery by enabling the shore-based whiting fleet, comprised exclusively of catcher vessels, to deliver unsorted catch to processing plants. This practice is necessary to ensure that whiting landings are of market quality, while abiding by Federal groundfish regulations and those implementing the Pacific Coast salmon and groundfish fishery management plans (FMPs).

Timetable:

Action | Date | FR Cite
Withdrawn | 02/07/11 |

Regulatory Flexibility Analysis Required: Yes.

Agency Contact: D. Robert Lohn, Regional Administrator, Northwest Region, NMFS, Department of Commerce, National Oceanic and Atmospheric Administration, 7600 Sand Point Way NE, Building 1, Seattle, WA 48115-0070, Phone: 206 526-6150, Fax: 206 526-6426, E-mail: robert.lohn@noaa.gov.

RIN: 0648-AR63

107. Certification of Nations Whose Fishing Vessels Are Engaged in IUU Fishing or Bycatch of Protected Living Marine Resources

Legal Authority: 16 U.S.C. 1801 et seq.; 16 U.S.C. 1826(d) to1826(k)

Abstract: The National Marine Fisheries Service (NMFS) is establishing a process of identification and certification to address illegal, unreported, or unregulated (IUU) activities and bycatch of protected species in international fisheries. Nations whose fishing vessels engage, or have been engaged, in IUU fishing or bycatch of protected living marine resources would be identified in a biennial report to Congress, as required under section 403 of the Magnuson-Stevens Fishery Conservation and Management Reauthorization Act (MSRA) of 2006 which amended the High Seas Driftnet Fishing Moratorium Protection Act. Under the final regulations, NMFS would subsequently certify whether identified nations have taken appropriate corrective action with respect to the activities of its fishing vessels.

Timetable:

Action | Date | FR Cite
ANPRM | 06/11/07 | 72 FR 33436
NPRM | 01/14/09 | 74 FR 2019
NPRM Comment Period End | 05/14/09 |
Final Action | 01/12/11 | 76 FR 2011

Regulatory Flexibility Analysis Required: Yes.

Agency Contact: Christopher Rogers, Division Chief, Department of Commerce, National Oceanic and Atmospheric Administration, 1315 East-West Highway, Silver Spring, MD 20910, Phone: 301 713-9090, Fax: 301 713-9106, E-mail: christopher.rogers@noaa.gov.

RIN: 0648-AV51

108. Revise Regulations Governing the North Pacific Groundfish Observer Program

Legal Authority: 118 Stat 110; 16 U.S.C. 773 et seq.; 16 U.S.C. 1801 et seq.; 16 U.S.C. 3631 et seq.; Pub. L. 108-199

Abstract: This rulemaking revises Federal regulations relevant to numerous administrative and procedural requirements applicable to observer providers, observers, and industry participating in the North Pacific Groundfish Observer Program. Specifically, this action: Modifies the current permit issuance process so that observer and observer provider permit issuance is a discretionary National Marine Fisheries Service (NMFS) decision; amends current Federal regulations addressing observer behavior involving drugs, alcohol, and physical sexual conduct to remove NMFS oversight of observer behavior that does not affect job performance; requires that observer providers submit policies related to these activities and continue to notify NMFS upon learning of an incident; revises Federal regulations so that observer providers are allowed to provide observers or technical staff for purposes of exempted fishing permits, scientific research permits, or other scientific research activities; revises the definition of “fishing day” in Federal regulations; requires observer providers to annually submit detailed economic information to NMFS; specifies a date by which observers who have collected data in the previous fishing year would be required to be available for debriefing; and implements housekeeping issues related to errors or clarifications in existing regulations at 50 CFR 679.50.

Timetable:

Action | Date | FR Cite
NPRM | 09/30/09 | 74 FR 50155
NPRM Comment Period End | 10/31/09 |
Final Action | 11/10/10 | 75 FR 69016

Regulatory Flexibility Analysis Required: Yes.

Agency Contact: Robert D Mecum, Deputy Acting Administrator, Department of Commerce, National Oceanic and Atmospheric Administration, 709 W. 9th Street, Room 420, Juneau, AK 99802, Phone: 907 586-7221, Fax: 907 586-7249, E-mail: robert.mecum@noaa.gov.

RIN: 0648-AW24

109. Regulatory Amendment to the Fishery Management Plan for the Reef Fish Fishery of Puerto Rico Modifying the Bajo De Sico Seasonal Closure

Legal Authority: 16 U.S.C. 1801

Abstract: This rule modifies the seasonal closure of Bajo de Sico, an area off the west coast of Puerto Rico that has been identified as critically important habitat for commercially exploited snappers and groupers. Current regulations prohibit all fishing activities, including for Highly Migratory Species (HMS), from December 1 through the end of February each year, as well as impose a year-round prohibition of bottom tending gear (i.e., traps, pots, gillnets, trammel nets, and bottom longlines). This action prohibits fishing for and possession of council managed reef fish species from October 1 through March 31. Queen Conch and coral reef resources are already prohibited year-round and will not be affected by this rule. Restrictions on bottom-tending gear will also not be affected by this rule. A year-round prohibition of anchoring within Bajo de Sico will also be implemented through this rule to provide further protection of established essential fish habitat.

Timetable:

Action | Date | FR Cite
NPRM | 07/28/10 | 75 FR 44209
NPRM Comment Period End | 08/27/10 |
Final Action | 11/02/10 | 75 FR 67247

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-AY05

110. Amendment 17A to the Fishery Management Plan for the Snapper Grouper Fishery of the South Atlantic Region

Legal Authority: 16 U.S.C. 1801

Abstract: The most recent red snapper stock assessment, completed February 2008, determined the species was undergoing overfishing and was overfished. Biomass shows a sharp decline during the 1950s and 1960s, continued decline during the 1970s, and stable but low levels since 1980. The South Atlantic Fishery Management Council (Council) is required by the Magnuson-Stevens Fishery Conservation and Management Act (Magnuson-Stevens Act) to implement rebuilding plans for overfished species. Therefore, Amendment 17A is being developed to establish a rebuilding plan and updated management reference points for red snapper in the South Atlantic. Additionally, revisions to the Magnuson-Stevens Act in 2006 require that by 2010, Fishery Management Plans (FMPs) for fisheries determined by the Secretary to be subject to overfishing establish a mechanism for specifying Annual Catch Limits (ACLs) at a level that prevents overfishing and does not exceed the recommendations of the respective Councils Scientific and Statistical Committee or other established peer review processes. These FMPs are also required to establish within this timeframe measures to ensure accountability. To comply with this Magnuson-Stevens Act requirement, Amendment 17A would establish an ACL and accountability measures for red snapper, and implement management measures to ensure harvest does not exceed the ACL.

Timetable:

Action | Date | FR Cite
Notice of Availability | 07/29/10 | 75 FR 44753
NPRM | 08/13/10 | 75 FR 49447
Notice of Availability Comment Period End | 09/27/10 |
NPRM Comment Period End | 09/27/10 |
Final Action—Correction | 03/09/11 | 76 FR 12883

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-AY10

111. Amendment 17B to the Fishery Management Plan for the Snapper Grouper Fishery of the South Atlantic Region

Legal Authority: 16 U.S.C. 1801

Abstract: Revisions to the Magnuson-Stevens Fishery Conservation and Management Act (Magnuson-Stevens Act) in 2006 require that by 2010, Fishery Management Plans (FMPs) for fisheries determined by the Secretary to be subject to overfishing establish a mechanism for specifying Annual Catch Limits (ACLs) at a level that prevents overfishing and does not exceed the recommendations of the respective Council's Scientific and Statistical Committee or other established peer review processes. These FMPs are also required to establish within this timeframe measures to ensure accountability. To comply with this Magnuson-Stevens Act requirement Amendment 17B would: (1) Establish ACLs and accountability measures for snowy grouper, speckled hind, Warsaw grouper, black grouper, red grouper, golden tilefish, black sea bass, gag, and vermilion snapper; (2) implement management measures to ensure harvest of these snapper-grouper species does not exceed the ACLs; (3) specify allocations for golden tilefish; and (4) modify the current snapper-grouper framework procedure to include ACLs, AMs, and annual catch targets.

Timetable:

Action | Date | FR Cite
Notice of Availability | 09/22/10 | 75 FR 57734
NPRM | 10/12/10 | 75 FR 62488
Notice of Availability Comment Period End | 11/22/10 |
NPRM Comment Period End | 11/26/10 |
Final Rule | 12/30/10 | 75 FR 82280
Correcting Amendment | 03/08/11 | 76 FR 12605

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-AY11

112. Maximized Retention Monitoring Program for Catcher Vessels in the Pacific Whiting Mothership Fishery in the Pacific Coast Groundfish Fishery

Legal Authority: 16 U.S.C. 1801

Abstract: The action would implement a monitoring program for catcher vessels in the mothership sector of the Pacific whiting fishery off the coast of Washington, Oregon, and California. The monitoring program would consist of a camera and other sensors to monitor fishing activity in order to maintain the integrity of the maximized retention requirements found at 50 CFR 660.306(f)(7). Maximized retention encourages full retention of all catch while allowing minor discard events to occur. This ensures that unsorted catch is available for observers to monitor on board the mothership processors and thereby maintains the integrity of data collected under the observer program.

Timetable:

Action | Date | FR Cite
Withdrawn | 02/07/11 |

Regulatory Flexibility Analysis Required: Yes.

Agency Contact: Frank Lockhart, Program Analyst, Department of Commerce, National Oceanic and Atmospheric Administration, 7600 Sand Point Way NE., Seattle, WA 98115, Phone: 206 526-6142, Fax: 206 526-6736, E-mail: frank.lockhart@noaa.gov.

RIN: 0648-AY17

113. Regulatory Amendment To Revise Charter Halibut Logbook Submission Requirements

Legal Authority: 16 U.S.C. 2431 et seq.; 31 U.S.C. 9701 et seq.

Abstract: The rule clarifies and revises the charter halibut logbook submission requirements at 50 CFR part 300 to better match the submission schedule and reporting format of the Alaska Department of Fish and Game saltwater charter logbook.

Timetable:

Action | Date | FR Cite
NPRM | 04/27/10 | 75 FR 22070
NPRM Comment Period End | 05/12/10 |
Final Rule | 02/07/11 | 76 FR 6567

Regulatory Flexibility Analysis Required: Yes.

Agency Contact: Robert D Mecum, Deputy Acting Administrator, Department of Commerce, National Oceanic and Atmospheric Administration, 709 W. 9th Street, Room 420, Juneau, AK 99802, Phone: 907 586-7221, Fax: 907 586-7249, E-mail: robert.mecum@noaa.gov.

RIN: 0648-AY38

114. Vessel Capacity Limits in the Purse Seine Fishery in the Eastern Pacific Ocean

Legal Authority: 16 U.S.C. 971 et seq.; 16 U.S.C. 951 to 961

Abstract: NMFS is proposing regulations under authority of the Tuna Conventions Act of 1950 to revise the vessel capacity limit in the purse seine fishery operating in the eastern Pacific Ocean (EPO) so it is consistent with the amount authorized by the Inter-American Tropical Tuna Commission (IATTC) under IATTC Resolution C-02-03. For the United States, a vessel capacity limit of 31,775 cubic meters, or 27,147 metric tons (mt), would be established per Resolution C-02-03. Currently, the U.S. fleet capacity limit is 8,969 mt, or 10,498 cubic meters. This revision would ensure that the United States is satisfying its obligations as a member of the IATTC and not exceeding its allotted capacity in the fishery, and that the U.S. industry is not being unreasonably burdened if U.S. participation in the fishery in the EPO increased in the future. While an increase in U.S. participation in this fishery would not be anticipated since currently only two purse seine vessels are on the IATTC Vessel Register, and when excess U.S. capacity has been available in the past there has not been a surge to use this capacity by outside vessels, there is a potential for an increase in fishing effort and resultant fishing mortality to target (i.e., yellowfin, skipjack, and bigeye tunas) and non-target species in the purse seine fishery operating in the EPO. In addition, there is also the potential for insignificant, positive socioeconomic impacts if the proposed action led to an increase in catch and revenue for fishermen participating in the fishery.

Timetable:

Action | Date | FR Cite
NPRM | 09/03/10 | 75 FR 54078
NPRM Comment Period End | 10/04/10 |
Final Action | 01/04/11 | 76 FR 283
Final Action Effective | 02/03/11 |

Regulatory Flexibility Analysis Required: Yes.

Agency Contact: Heidi Hermsmeyer, IATTC Coordinator, Department of Commerce, National Oceanic and Atmospheric Administration, 501 West Ocean Boulevard, Long Beach, CA 90802, Phone: 562 980-4036, Fax: 562 980-4047, E-mail: heidi.hermsmeyer@noaa.gov.

RIN: 0648-AY75

115. 2011 Specifications for the Atlantic Mackerel, Squid, and Butterfish Fishery

Legal Authority: 16 U.S.C. 1801 et seq.

Abstract: NMFS proposes specifications for the 2011 fishing year for Atlantic mackerel, squid, and butterfish (MSB). Regulations governing these fisheries require NMFS to publish proposed specifications for the upcoming fishing year and to provide an opportunity for public comment. The intent of this action is to fulfill this requirement and to promote the development and conservation of the MSB resources.

Timetable:

Action | Date | FR Cite
NPRM | 11/17/10 | 75 FR 70187
NPRM Comment Period End | 12/17/10 |
Final Action | 02/14/11 | 76 FR 8306

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, E-mail: pat.kurkul@noaa.gov.

RIN: 0648-BA03

116. Regulatory Amendment to the Reef Fish Fishery Management Plan to Set Total Allowable Catch for Red Grouper

Legal Authority: 16 U.S.C. 1801 et seq.

Abstract: The 2009 update stock assessment of the red grouper stock indicated that although the stock continues to be neither overfished or undergoing overfishing, the stock has declined since 2005. This decline was attributed to a 2005 episodic mortality event resulting in a little over 20 percent mortalities. Therefore, there is a need to improve the stock condition to a level where, at equilibrium, the stock can be harvested at optimum yield (OY). In addition, there is a need to implement rulemaking resulting from this amendment prior to January 1, 2011. This is so the 2011 commercial red grouper quota can be set and allow individual fishing quota (IFQ) shares to be adjusted to reflect any change in the total allowable catch (TAC). The purpose of this regulatory amendment is to adjust TAC and the resulting commercial quota consistent with the goals and objectives of the Council's reef fish management strategy and achieve the mandates of the Magnuson-Stevens Fishery Conservation and Management Act.

Timetable:

Action | Date | FR Cite
NPRM | 10/18/10 | 75 FR 63780
NPRM Comment Period End | 11/02/10
Final Action | 12/01/10 | 75 FR 74656

Regulatory Flexibility Analysis Required: Yes.

Agency Contact: Roy E Crabtree, Southeast Regional Administrator, Department of Commerce, National Oceanic and Atmospheric Administration, 263 13th Avenue South, Saint Petersburg, FL 33701, Phone: 727 824-5305, Fax: 727 824-5308, E-mail: roy.crabtree@noaa.gov.

RIN: 0648-BA04

117. Pacific Halibut Fisheries; Catch Sharing Plan

Legal Authority: 16 U.S.C. 773 et seq.

Abstract: NMFS proposes to approve and implement changes to the Pacific Halibut Catch Sharing Plan (Plan) for the International Pacific Halibut Commission's (IPHC) regulatory Area 2A off Washington, Oregon, and California (Area 2A). NMFS proposes to implement the portions of the Plan and management measures that are not implemented through the IPHC, which includes the sport fishery management measures for Area 2A. These actions are intended to enhance the conservation of Pacific halibut, to protect yelloweye rockfish and other overfished groundfish species from incidental catch in the halibut fisheries, and to provide greater angler opportunity where available.

Timetable:

Action | Date | FR Cite
NPRM | 01/18/11 | 76 FR 2871
NPRM Comment Period End | 02/02/11
Final Action | 03/16/11 | 76 FR 14300

Regulatory Flexibility Analysis Required: Yes.

Agency Contact: Sarah Joy McAvinchey, Fishery Biologist, Department of Commerce, National Oceanic and Atmospheric Administration, 7600 Sand Point Way NE., Building 1, Seattle, WA 98115, Phone: 206 526-4323, Fax: 206 526-6736.

RIN: 0648-BA25

118. • Bluefin Tuna Bycatch Reduction in the Gulf of Mexico Pelagic Longline Fishery

Legal Authority: 16 U.S.C. 1801

Abstract: This rule will consider requiring the use of weak hooks by pelagic longline (PLL) vessels fishing in the Gulf of Mexico. The dual intent of this rule is to provide a new gear technology for PLL vessels to continue routine fishing operations in the Gulf of Mexico on directed fisheries such as yellowfin tuna while increasing the live release of incidentally caught Atlantic bluefin tuna to further stock recovery of this historically overfished species.

Timetable:

Action | Date | FR Cite
NPRM | 01/13/11 | 76 FR 2313
NPRM Comment Period End | 02/12/11
Final Action | 04/05/11 | 76 FR 18653

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, E-mail: margo.schulze-haugen@noaa.gov.

RIN: 0648-BA39

119. Take and Import Marine Mammals: Proposed Rule for Take of Marine Mammals Incidental to Routine Operations of 13 Power Generating Stations in Central and Southern California

Legal Authority: 16 U.S.C. 1361 et seq.

Abstract: The National Marine Fisheries Service (NMFS) proposes to govern the take of marine mammals by Level A harassment (injury) and mortality from 13 power generating stations located on the coast of central and southern California incidental to routine power plant operations for a period of five years, under the authority of section 101(a)(5)(A) of the Marine Mammal Protection Act. Under that authority NMFS also must prescribe mitigation, monitoring, and reporting requirements in connection with take authorizations.

Incidental takings of marine mammals, including California sea lions, harbor seals, and northern elephant seals can and do occur as a result of the operation of circulating water systems (CWS) by the electrical power generation plants located on the coast of central and southern California described in the incidental take authorization applications. These CWS are an integral part of these power stations that provide continuous cooling water necessary for power generation and safety of the facility. The typical location of entrainment occurs as water is taken into the plant via submerged structures or canals. Intake velocities may be strong enough to pull live animals into the plant, particularly if they are actively seeking prey in the vicinity of intake structures. Confinement within intake plumbing could lead to confusion and panic, especially for young, immature animals. If the animal is unable to escape, it could (1) drown or become fatally injured in transit between intake and large sedimentation basins within the plants known as forebays; (2) survive the transit and succumb in the forebay due to exhaustion, illness, or disease; or (3) survive the transit and be rescued by plant personnel using cages specially designed for such an activity. It is also likely that previously dead animals may end up entrained as well.

Timetable:

Action | Date | FR Cite
Withdrawn | 02/24/11

Regulatory Flexibility Analysis Required: Yes.

Agency Contact: Dr. Michael Payne, Fishery Biologist, Department of Commerce, National Oceanic and Atmospheric Administration, P.O. Box 21668, Juneau, AK 99802, Phone: 907 586-7235, Fax: 301 713-2521, E-mail: michael.payne@noaa.gov.

RIN: 0648-AW59

120. Taking and Importing Marine Mammals; U.S. Naval Surface Warfare Center Panama City Division Mission Activities

Legal Authority: 16 U.S.C. 1361 et seq.

Abstract: On April 3, 2008, the National Marine Fisheries Service (NMFS) received an application from the Navy requesting an authorization for the take of 15 species/stocks of cetacean incidental to the proposed mission activities in the Naval Surface Warfare Center Panama City Division (NSWC PCD) study area over the course of five years. These mission activities are classified as military readiness activities. The purpose of the proposed mission activities is to enhance NSWC PCD's capability and capacity to meet littoral and expeditionary warfare requirements by providing Research, Development, Test, and Evaluation (RDT&E) and in service engineering for expeditionary maneuver warfare, operations in extreme environments, mine warfare, maritime operations, and coastal operations. The Navy states that these training activities may cause various impacts to marine mammal species in the NSWC PCD study area. The Navy requests an authorization to take individuals of these cetacean species by Level B Harassment. Further, the Navy requests an authorization to take 1 individual each of bottlenose, Atlantic spotted, and pantropical spotted dolphins per year by injury, as a result of the proposed mission activities.

NMFS is issuing a proposed rule to govern the take of these marine mammals by Level B harassment (behavior) and Level A harassment (injury) incidental to the aforementioned mission activities in the Naval NSWC PCD study area for a period of five years, under the authority of section 101(a)(5)(A) of the Marine Mammal Protection Act. Under that authority NMFS also must prescribe mitigation, monitoring, and reporting requirements in connection with take authorizations.

Timetable:

Action | Date | FR Cite
NPRM | 04/30/09 | 74 FR 20156
NPRM Comment Period End | 06/01/09
Final Action | 01/21/10 | 75 FR 3395

Regulatory Flexibility Analysis Required: Yes.

Agency Contact: Dr. Michael Payne, Fishery Biologist, Department of Commerce, National Oceanic and Atmospheric Administration, P.O. Box 21668, Juneau, AK 99802, Phone: 907 586-7235, Fax: 301 713-2521, E-mail: michael.payne@noaa.gov.

RIN: 0648-AW80

DEPARTMENT OF COMMERCE (DOC)

Patent and Trademark Office (PTO)

Proposed Rule Stage

121. Revision of USPTO Fees for Fiscal Year 2011

Legal Authority: 35 U.S.C. 41, 119, 120, 132(b) and 376; Pub. L. 109-383; Pub. L. 110-116; Pub. L. 110-137; Pub. L. 110-149; Pub. L. 110-161; Pub. L. 110-5; Pub. L. 110-92

Abstract: The United States Patent and Trademark Office (USPTO) takes this action to adjust certain patent and trademark fee amounts set in the aggregate to recover the estimated cost to the USPTO for processing activities and services and materials relating to patents and trademarks, respectively, including proportionate shares of the administrative costs of the USPTO.

Timetable:

Action | Date | FR Cite
NPRM | 06/00/11
NPRM Comment Period End | 07/00/11
Final Action | 07/00/11

Regulatory Flexibility Analysis Required: Yes.

Agency Contact: Walter Schlueter, Budget Analyst—Fees and Forecasting, Department of Commerce, Patent and Trademark Office, P.O. Box 1450, Alexandria, VA 22313, Phone: 571 272-6299, Fax: 571 273-6299, E-mail: walter.schlueter@uspto.gov.

RIN: 0651-AC43

122. Revision of USPTO Fees for Fiscal Year 2012

Legal Authority: 35 U.S.C. 119; Pub. L. 109-383; Pub. L. 110-116; Pub. L. 110-137; Pub. L. 110-149; Pub. L. 110-161; Pub. L. 110-5; Pub. L. 110-92; 35 U.S.C. 376; 35 U.S.C. 120; 35 U.S.C. 41; 35 U.S.C. 132(b)

Abstract: The United States Patent and Trademark Office (USPTO) takes this action to adjust certain patent fee amounts for fiscal year 2012 to reflect fluctuations in the Consumer Price Index for All Urban Consumers (CPI-U). The patent statute provides for the annual CPI-U adjustment of patent fees set by statute to recover the higher costs associated with doing business.

Timetable:

Action | Date | FR Cite
NPRM | 06/00/11
NPRM Comment Period End | 07/00/11
Final Action | 07/00/11
Final Action Effective | 10/00/11

Regulatory Flexibility Analysis Required: Yes.

Agency Contact: Walter Schlueter, Budget Analyst—Fees and Forecasting, Department of Commerce, Patent and Trademark Office, P.O. Box 1450, Alexandria, VA 22313, Phone: 571 272-6299, Fax: 571 273-6299, E-mail: walter.schlueter@uspto.gov.

RIN: 0651-AC44

DEPARTMENT OF COMMERCE (DOC)

Patent and Trademark Office (PTO)

Final Rule Stage

123. Interim Increase on Patent Fees for Fiscal Year 2011

Legal Authority: Pub. L. 110-137; Pub. L. 110-149; Pub. L. 110-161; Pub. L. 110-5; Pub. L. 110-92; 35 U.S.C. 376; 35 U.S.C. 132(b); 35 U.S.C. 120; 35 U.S.C. 119; 35 U.S.C. 41; Pub. L. 109-383; Pub. L. 110-116

Abstract: The United States Patent and Trademark Office (USPTO) is proposing an interim increase on certain patent fees to fund the requirements for putting the USPTO on a sustainable path to fund agency operations, reduce patent inventory and pendency, and invest in information technology.

Timetable:

Action | Date | FR Cite
Final Action | 06/00/11

Regulatory Flexibility Analysis Required: Yes.

Agency Contact: Walter Schlueter, Budget Analyst—Fees and Forecasting, Department of Commerce, Patent and Trademark Office, P.O. Box 1450, Alexandria, VA 22313, Phone: 571 272-6299, Fax: 571 273-6299, E-mail: walter.schlueter@uspto.gov.

RIN: 0651-AC42

[FR Doc. 2011-15475 Filed 7-6-11; 8:45 am]

BILLING CODE 3510-12-P